DEPARTMENT OF EDUCATION

34 CFR Subtitle A

RIN 1810-AB17

[Docket No. ED-2013-OS-0050]

Final Priorities, Requirements, Definitions, and Selection Criteria; Race to the Top—District

AGENCY: Office of the Deputy Secretary, Department of Education.

ACTION: Final priorities, requirements, definitions, and selection criteria.

[CFDA Number: 84.416.]

SUMMARY: The Secretary announces priorities, requirements, definitions, and selection criteria under the Race to the Top—District program. The Secretary may use one or more of these priorities, requirements, definitions, and selection criteria for competitions in fiscal year (FY) 2013 and later years.

The Race to the Top—District program builds on the experience of States and districts in implementing reforms in the four core educational assurance areas through Race to the Top and other key programs and supports applicants that demonstrate how they can personalize education for all students in their schools. The U.S. Department of Education (Department) conducted one competition under the Race to the Top—District program in FY 2012, and we are maintaining the overall purpose and structure of the FY 2012 Race to the Top—District competition. These priorities, requirements, definitions, and selection criteria are almost identical to the ones we used in the FY 2012 competition.

DATES: Effective Date: These priorities, requirements, definitions, and selection criteria are effective September 5, 2013

FOR FURTHER INFORMATION CONTACT: James Butler, U.S. Department of Education, 400 Maryland Avenue SW., Room 7E214, Washington, DC 20202-4260. Telephone: (202) 453-6800. FAX: (202) 401-1557. Email: racetothetop.district@ed.gov.

If you use a telecommunications device for the deaf (TDD) or text telephone (TTY), call the Federal Relay Service (FRS), toll free, at 1-800-877-8339.

SUPPLEMENTARY INFORMATION:

Executive Summary

Purpose of This Regulatory Action: The purpose of this action is to establish priorities, requirements, definitions, and selection criteria that will enable effective grant making, resulting in the selection of high-quality applicants who propose to implement activities that the Department believes are most likely to support bold, locally directed improvements in learning and teaching that would directly improve student achievement and educator effectiveness.

Summary of the Major Provisions of This Regulatory Action: This document establishes priorities, requirements, definitions, and selection criteria for the Race to the Top—District program.

The Race to the Top—District program is designed to build on the momentum of other Race to the Top competitions by encouraging bold, innovative reform at the local level. The Race to the Top—District competition is aimed squarely at classrooms and the all-important relationship between educators and students. The priorities, requirements, definitions, and selection criteria in this document are almost identical to those we used in the FY 2012 competition. The competition will again support applicants that demonstrate how they can personalize education for all students in their schools.

In that regard, through this competition, the Department will encourage and reward those local educational agencies (LEAs) or consortia of LEAs that have the leadership and vision to implement the strategies, structures, and systems that the Department believes are needed to implement personalized, student-focused approaches to learning and teaching that will produce excellence and ensure equity for all students. The priorities, definitions, requirements, and selection criteria are designed to help LEAs meet these goals. As stated in the notice of proposed priorities, requirements, definitions, and selection criteria (NPP) (published in the Federal Register on April 16, 2013 (78 FR 22451)), most changes from the FY 2012 competition reflect minor language clarifications. The two substantive changes are the removal of the opportunity to apply for an optional budget supplement and the reduction of the minimum and maximum grant amount for which an applicant may apply. We believe these changes enable the Department to maximize the number of grantees that would receive funding under a competition, while still awarding grants of sufficient size to support bold improvements in learning and teaching. In addition, this document includes some revisions from the NPP. We discuss changes from the NPP in greater detail in the Analysis of Comments and Changes section.

Under Priority 1, applicants must design a personalized learning environment that uses collaborative, data-based strategies and 21st-century tools, such as online learning platforms, computers, mobile devices, and learning algorithms, to deliver instruction and supports tailored to the needs and goals of each student, with the aim of enabling all students to graduate college- and career-ready. Implementation of a personalized learning environment is not achieved through a single solution or product but rather requires a multi-faceted approach that addresses the individual and collective needs of students, educators, and families and that dramatically transforms the learning environment in order to improve student outcomes.

Through Race to the Top—District, the Department will continue to support high-quality proposals from applicants across a varied set of LEAs in order to create diverse models of personalized learning environments for use by LEAs across the Nation. For this reason, the Department is establishing four additional priorities. Priorities 2 through 5 support efforts to expand the types of reform efforts being implemented in LEAs in States that have received a Race to the Top Phase 1, 2, or 3 award and to LEAs in other States. Moreover, these priorities also help ensure that LEAs of varying sizes, both rural and non-rural, and with different local contexts, are able to implement innovative personalized learning environments for their students that can serve as models for other LEAs and help improve student achievement widely.

Finally, we establish one additional priority to support applicants that propose to extend their reforms beyond the classroom and partner with public or private entities in order to address the social, emotional, and behavioral needs of students, particularly students who attend a high-need school.

Costs and Benefits: The Secretary believes that the costs imposed on applicants by these priorities, requirements, definitions, and selection criteria are limited to paperwork burden related to preparing an application and the benefits of implementing them would outweigh any costs incurred by applicants. The costs of carrying out activities would be paid for with program funds. Thus, the costs of implementation would not be a burden for any eligible applicants, including small entities. Please refer to the Regulatory Impact Analysis in this document for a more complete discussion of the costs and benefits of this regulatory action.

This notice provides an accounting statement that estimates that approximately $120 million will transfer from the Federal Government to LEAs under this program. Please refer to the accounting statement in this document for a more detailed discussion.

Purpose of Program: The purpose of the Race to the Top—District program is to build on the lessons learned from the State competitions conducted under the Race to the Top program and to support bold, locally directed improvements in learning and teaching that will directly improve student achievement and educator effectiveness.

Program Authority: Sections 14005 and 14006 of the American Recovery and Reinvestment Act (Pub. L. 111-5), as amended by section 1832(b) of Division B of the Department of Defense and Full-Year Continuing Appropriations Act, 2011 (Pub. L. 112-10), and the Department of Education Appropriations Act, 2012 (Consolidated Appropriations Act, 2012) (Title III of Division F of Pub. L. 112-74).

We published proposed priorities, requirements, definitions, and selection criteria for this program in the Federal Register on April 16, 2013 (78 FR 22451). That notice contained background information and our reasons for proposing the particular priorities, requirements, definitions, and selection criteria.

Public Comment: In response to our invitation in the NPP, 43 parties submitted comments.

We group responses to comments according to subject. Generally, we do not address technical and other minor changes.

Analysis of Comments and Changes: An analysis of the comments and of any changes in the priorities, requirements, definitions, and selection criteria since publication of the NPP follows. We have included category headings below to help with organization, though some comments were relevant to multiple categories and were considered accordingly.

General

Comment: Many commenters expressed support for the Race to the Top—District program's focus on personalized learning and advancing innovation in education. Commenters noted that this approach will help accelerate and deepen student learning, close achievement gaps, and help all students graduate ready for college and a career. A couple commenters suggested the program could lead to transformational changes in teaching and learning. A commenter specifically agreed with the key proposed changes to the program, including removing the optional budget supplement and adapting the budget bands, and particularly applauded the decrease in the number of minimum participating students required in the largest award range.

However, some commenters suggested different directions for the program. A commenter suggested that the program should have a primary focus on the implementation of college- and career-ready standards, the institution of wraparound services, and the expansion of early education. Another commenter suggested providing more flexibility for applicants to address the Race to the Top reform areas in the context of, and without distracting them from, their own local reform efforts. A couple commenters suggested that building on the four core assurance areas could detract from the focus on personalized learning. A few commenters suggested streamlining the selection criteria to reduce the risk of overburdening LEAs while retaining the ambitious goals of the Race to the Top—District program.

Discussion: We appreciate the support from commenters for the emphasis on personalized learning and the potential for contributing to significant improvements in learning and teaching. We believe it is important for applicants to create personalized learning environments that will lead to the greatest improvement in each LEA while also ensuring alignment with the broader education context in their States, including Race to the Top State grants, ESEA flexibility, and other relevant programs and initiatives.

We appreciate the suggestions for different directions for the program and the suggestions for narrowing the priorities and selection criteria. We decline to shift the focus away from personalized learning or to significantly change the priorities and selection criteria. However we have removed one selection criterion—that was designated in the NPP as (B)(5) Analysis of Needs and Gaps—which we believe can be addressed in a more integrated way in applicants' plans and responses to other selection criteria. We believe that the priorities and remaining selection criteria allow sufficient flexibility for applicants to design proposals aligned to their local context and needs while maximizing the opportunity for the Department to support bold, locally directed improvements in learning and teaching that will directly improve student achievement and educator effectiveness.

Changes: We have removed selection criterion (B)(5).

Comment: A few commenters expressed support for continuing to fund districts to lead the way with reforms at the local level. A number of commenters supported the Department's plan to conduct a new competition and suggested that this will provide an opportunity for more districts to propose and implement bold plans. In addition, a commenter noted that maintaining a nearly identical application to the application used in the FY 2012 competition will lead to stronger responses in 2013. Another commenter noted that the Department included the strongest elements of the 2012 competition within the new NPP.

In contrast, many commenters, the majority on behalf of districts in one State and a few on behalf of districts in another State, asked that the Department fund high-scoring but unsuccessful applicants from the FY 2012 Race to the Top—District competition rather than invite districts to apply through a new competition. Commenters suggested that this would limit the time and resources spent by applicants on preparing submissions and by the Department on conducting the competition. A commenter also suggested that if the Department limits the competition to prior applicants, it should include applications that had high scores from two out of three peer reviewers.

Discussion: Based on past Race to the Top competitions, we believe that the quality of applications increases each year that we run a competition. A new competition allows both new and past applicants to develop and submit proposals that reflect their current vision, strategies, and context and permits applicants to learn from winning applications, learn from peer reviewer comments, and ensure that their proposals reflect their current vision, strategies, and context. For these reasons, we do not plan to limit the competition to past applicants. We acknowledge the time required to prepare a grant application, but we also believe the application process provides a worthwhile opportunity for LEAs to work with stakeholders within and across LEAs on developing proposals for bold improvements in learning and teaching. In addition, past applicants have reported that developing their application positioned them for greater educational impact whether or not they received funding.

Changes: None.

Comment: A commenter recommended that the Department allot substantially more money to this program and provide further incentives for district participation by awarding at least the same number and size of LEA grants as in FY 2012. This commenter also suggested lowering the minimum award range to $2 million to $10 million. Another commenter appreciated the decision to continue this funding opportunity for local school districts, especially during a time of sequestration and other cuts to education, noting that this program provides an opportunity to support innovation at the local level and achieve equity and excellence in education for all children.

Discussion: The Department anticipates awarding approximately $120 million for the Race to the Top—District competition and $370 million for the Race to the Top—Early Learning Challenge competition. While we welcome the opportunity to fund additional LEA and State grantees, we believe the amount allocated this year will encourage and reward reform in LEAs and States. In addition, we proposed through the NPP to remove the opportunity to apply for an optional budget supplement and reduce the minimum and maximum grant amount for which an applicant may apply. We believe these changes will enable the Department to maximize the number of grantees that would receive funding under a district competition while still awarding grants of sufficient size and scope to support bold improvements in learning and teaching.

Changes: None.

Comment: A commenter expressed support for setting the minimum number of participating students at 2,000. A couple commenters felt this number should be further reduced, as it will exclude some districts from applying individually and instead require them to join a consortium despite the individual district's unique problems, strengths, and goals.

Discussion: The Department believes it is important to award grants of sufficient size and scope to support bold, innovative reforms in learning and teaching that can help to create diverse models of personalized learning environments for use by LEAs across the Nation. The Department also believes that the eligibility requirements allow for sufficient flexibility for individual LEA applicants and consortia applicants. According to the National Center for Education Statistics' “Numbers and Types of Public Elementary and Secondary Local Education Agencies From the Common Core of Data: School Year 2010-11,” more than 80 percent of public elementary and secondary school districts had a student membership over 2,999 in 2010-2011. Thus, the majority of LEAs may apply individually. For those LEAs with fewer than 2,000 participating students, there are two paths to apply, either by joining a consortium with a minimum of 2,000 participating students or by joining a consortium with fewer than 2,000 participating students, provided those students are served by a consortium of at least 10 LEAs and at least 75 percent of the students served by each LEA are participating students (as defined in this notice).

Changes: None.

Comment: A commenter expressed concern that several aspects of Race to the Top—District core reforms are too prescriptive and expressed concern about the trend toward using competitive, as opposed to formula, funding to advance education goals.

Discussion: The core education reform areas were established in the statute authorizing the Race to the Top programs. The Race to the Top—District program builds on the experience of States and districts in implementing reforms in the four core educational assurance areas through Race to the Top and other key programs and supports applicants that demonstrate how they can personalize education for all students in their schools. The great majority—over 80 percent—of the Department's funds for early childhood and elementary and secondary education are distributed by formula. We believe competitive funds provide an important opportunity to encourage and reward States and LEAs that propose to implement bold, innovative reforms that are most likely to directly improve student outcomes.

Changes: None.

Definitions

Comment: A commenter recommended that the Department broaden the definition of “digital learning content” to ensure that all high-quality multiplatform digital content is captured in the selection criteria. The commenter believed this would help align proposals with the variety of ways in which children learn and provide children with more opportunities to learn anytime, anywhere.

Discussion: There is nothing in the priorities, requirements, definitions, or selection criteria that would preclude an eligible applicant from proposing plans that utilize multiplatform digital content, provided that the proposal otherwise addresses the priorities, requirements, and selection criteria. Given the variety of proposals that can be funded under the Race to the Top—District program, we do not want to prescribe specific tools or approaches that must be used.

Changes: None.

Comment: A commenter recommended that the Department provide a definition of “high-quality plan.”

Discussion: The Department agrees to add “high-quality plan” as a defined term. We have described high-quality plans the same way in the FY 2013 competition as we did in the FY 2012 competition.

Changes: We have added “high-quality plan” as a defined term.

Comment: A commenter recommended adding a definition for “stakeholder” and requiring that this definition be applied whenever the term “stakeholder” is used in the document, because school improvement cannot succeed without the involvement of these crucial partners. This commenter also recommended that in selection criterion (B)(4)(a), the Department add “community partners” to the list of groups that should be engaged in the development of the proposal.

Discussion: We agree that engaging stakeholders is important, as demonstrated through the emphasis on stakeholder engagement throughout the requirements and selection criteria. However, we decline to include a specific definition of this term in order to allow applicants the flexibility to determine appropriate stakeholders for their local context and needs. In addition, selection criterion (B)(4)(b) already includes community-based organizations, and there is nothing that precludes an applicant from engaging these stakeholders further, provided that the applicant addresses the priorities, requirements, and selection criteria. Accordingly, we decline to add a reference to “community partners” to selection criterion (B)(4)(a).

Changes: None.

Comment: A commenter recommended that the Department be more specific in its definition of “on-track indicator,” and incorporate specific research-based characteristics into that definition to ensure districts are accurately measuring the number of students who are on and off track to college- and career-readiness and on-time graduation from high school. The commenter suggested that a more specific definition would also provide a more uniform measure of effectiveness that would result in a better understanding of which interventions have the most impact. Another commenter recommended that applicants serving middle and high school students should describe the process for implementing an early warning indicator system to identify students in need of targeted supports and integrated services, particularly for applicants responding to the competitive preference priority. Both commenters suggested using the same three characteristics—attendance, behavior, and course performance—though the commenters recommended different measures for each characteristic.

Discussion: We agree on the importance of capturing and using data frequently and highlight this throughout priorities, requirements, definitions, and selection criteria. For example, selection criterion (C)(1)(b)(iv) emphasizes ongoing and regular feedback for each student, and selection criterion (E)(3) includes both required performance measures and applicant-proposed performance measures that provide rigorous, timely, and formative leading information tailored to the proposed plan and theory of action. However, because the potential applicants and plans are so diverse, we feel that it is important for applicants to propose the specific on-track indicator and related systems that best support achieving the goals in their proposals, and we decline to further specify definitions or system requirements in this area.

Changes: None.

Comment: A couple commenters requested that in the definition of “student growth” we add the word “multiple” before “measures” and before “alternative measures.” These commenters also recommended that the Department support maximum flexibility in how student growth measures are included in teacher evaluation systems.

Discussion: The proposed definition of “student growth” aligns with the definitions used in past Race to the Top competitions and in ESEA flexibility. We believe that using this similar definition is helpful for applicants and note that multiple measures are currently incorporated within the definition. We appreciate the recommendation about flexibility on how student growth measures are included in teacher evaluation and believe the Department's programs in these areas allow for local flexibility.

Changes: None.

Comment: A commenter noted that the definition of “achievement gaps” appears to depart from traditional definitions because it would potentially compare subgroup, LEA, and school performance to the State's highest-achieving subgroups rather than to the State average of all students.

Discussion: The proposed definition of “achievement gap” aligns with ESEA flexibility's approach to measuring achievement gaps, in particular for “focus schools.” We believe that this alignment is helpful for applicants in order to minimize the different ways in which they calculate and report achievement gap information. In addition, “achievement gap” was not a defined term in some of our other competitive grant programs. We believe having a definition consistent with the one used in ESEA flexibility is helpful for applicants and grantees as they learn from each other during implementation of their grants and strive to meet ambitious goals.

Changes: None.

Comment: A few commenters applauded the Department for requiring districts to detail how they will leverage personalization to accelerate and deepen student learning. A couple commenters suggested that the Department provide a definition of “deeper learning” since districts may interpret it in a variety of ways. A commenter suggested using a particular definition of “deeper learning” that includes a set of six competencies that students must develop. This commenter also recommended that districts be required to share how they plan to measure progress towards student mastery.

Discussion: The Department declines to define “deeper learning” or require a specific plan in this area. Because the potential applicants and plans are so diverse, we think applicants are in the best position to determine the approaches to deeper learning that will maximize improvement in their context and through their proposals.

Changes: None.

Comment: None.

Discussion: We are removing the definition of the term “four intervention models” because it is not used as a defined term in the Race to the Top—District program.

Changes: We removed the definition of the term “four intervention models.”

Comment: A commenter recommended adding to the definition of “four intervention models” a new option for the school intervention models, specifically community schools in which social, emotional, medical, and academic services that students and their families need are provided in the school buildings.

Discussion: Because “four intervention models” is not used as a defined term in the Race to the Top—District program, we are removing the definition and not considering changes to it.

Changes: None.

Selection Criteria

Note: Throughout the discussion of comments and changes on selection criteria, Section A refers to the group of selection criteria in A. Vision, i.e., (A)(1), (A)(2), (A)(3), (A)(4). Section B refers to the group of selection criteria in B. Prior Record of Success and Conditions for Reform. Section C refers to the group of selection criteria in C. Preparing Students for College and Careers. Section D refers to the group of selection criteria in D. LEA Policy and Infrastructure. Section E refers to the group of selection criteria in E. Continuous Improvement. Lastly, Section F refers to the group of selection criteria in F. Budget and Sustainability.

Section A. Vision

Comment: A few commenters discussed aspects of Section A. A commenter suggested that the Department increase the number of points allocated to Section A and ask districts to describe (1) their classroom-level vision for helping students meet college- and career-ready standards through gaining such deeper learning skills as critical thinking, problem solving, collaboration, and communication; (2) how they will incorporate social, emotional, and behavioral supports; (3) the human capital strategies they will use to achieve shifts in teaching and learning; and (4) the ongoing data cycles they will use to drive continuous improvement. A commenter suggested requiring applicants to be specific in the vision they wish to achieve and provide a graphical representation of their instructional vision to help districts map how their plan will enact change in the district. This commenter recommended a stronger emphasis on how personalized learning environments will look different in different schools and classrooms. The commenter also recommended that districts identify the unique set of supports required by each school in order for it to successfully implement personalized learning environments.

Discussion: The Department agrees that some additional description could be helpful in Section A, specifically selection criterion (A)(1). We agree that in responding to Section A, applicants should be specific in explaining how the educational experience will be different for students and teachers, and we have revised the language in (A)(1) accordingly. We believe that social, emotional, and behavioral supports, human capital strategies, and data use for continuous improvement are covered in other requirements, selection criteria, and priorities, and decline to add additional language on these topics to Section A. We do not believe we should require graphical representation or unique sets of supports at the individual school-level and leave it to the applicant to develop strong proposals and determine the best way to convey this information. We do, however, require grantees to submit an individual school implementation plan for participating schools (as defined in this notice). Although the Department did not solicit comments on the points to be assigned to the selection criteria and does not include the points in this regulatory action, we appreciate the support for Section C and the related scoring suggestions. We are keeping the majority of the criteria almost identical to the FY 2012 competition and similarly will keep the scoring rubric consistent in order to maximize applicants' ability to learn from past applications, peer reviewer comments, and other aligned resources.

Changes: We have added language to selection criterion (A)(1) to ask applicants to include in their reform vision how the classroom experience will be different for students and teachers.

Section B. Prior Record of Success and Conditions for Reform

Comment: A couple commenters suggested that requiring a four-year track record of success in selection criterion (B)(1) could make it difficult for districts with the greatest need to receive grant funds. These commenters noted that this requirement could also negatively affect States that have worked to achieve key goals, such as adoption of college- and career-ready standards and next generation assessment systems, since there may be an initial decrease in test scores. On the other hand, another commenter expressed support for asking for a four-year track record of success. A couple commenters suggested decreasing the point value for Section B because many districts scored highly on the criteria in this section in the FY 2012 competition, and the commenters suggested that it did not significantly differentiate applicants.

Discussion: In order to make the wisest investments of public funds, the Department believes a prior record of improvement over a sustained period with a plan for continued growth should be considered when awarding grants. We do not believe that this disadvantages districts with the greatest need, as the priorities and selection criteria emphasize high-need students in many places, and this particular criterion offers many ways by which applicants can demonstrate a clear track record of success. We do not specify point values in these final selection criteria, and instead indicate in any notice inviting applications the points we will assign to a particular criterion. That said, we do not intend to reduce the point value of Section B for the FY 2013 competition because of how critical it is for districts to have a record of success, transparency in LEA processes, State context for implementation, and stakeholder engagement. We will, however, remove selection criterion (B)(5) because we believe needs and gaps are already addressed in applicants' plans and responses to other selection criteria. Also, in the notice inviting applications, we will include the points from selection criterion (B)(5) into selection criterion (B)(4), keeping the overall scoring for Section B the same as it was in FY 2012 but further emphasizing the importance of stakeholder engagement with the addition of five points for that selection criterion.

Changes: We are removing selection criterion (B)(5).

Comment: Some commenters suggested that the data collection and reporting language in selection criterion (B)(2) be eliminated or modified. In addition, some commenters noted that it is unclear how this requirement is relevant to evaluating an applicant's prior record of success, how it strengthens an application, or how it demonstrates transparency in LEA processes, practices, and investments. Commenters also recommended changes to the language in selection criterion (B)(2). A couple commenters expressed privacy concerns about reporting personnel salaries, especially where this information is not already a matter of public record, and suggested that selection criterion (B)(2) should clarify that personally identifiable information will remain confidential. Another commenter pointed out that the current wording in selection criterion (B)(2) is not clear about whether the expenditure reporting requirements apply only to participating schools or to all schools within the LEA. Finally, a commenter suggested that if the aims of the expenditure reporting requirements are to improve teaching and learning and ensure equity, the focus should extend beyond salaries to provide a more complete picture of the real problems in hard-to-staff schools.

Discussion: As a commenter noted, the aim of including selection criterion (B)(2) is to emphasize the importance of transparency and equity, with the public reporting of school-level expenditures on salaries as a proxy for both. Also, as this data is reported through the Department's Civil Rights Data Collection (CRDC) instrument, we believe using the same language will help minimize burden on applicants. As we noted in the Frequently Asked Questions (FAQ) document for the FY 2012 competition, applicants should follow the 2011-2012 school year CRDC guidelines when reporting school expenditure data. The Department will keep (B)(2) as part of the selection criteria and will clarify for applicants that reporting is for all schools within each LEA.

Nothing in our selection criteria authorizes or encourages applicants to violate any local, State, or Federal privacy laws and we will communicate to applicants their obligations to comply with such laws. Finally, we want to highlight that selection criterion (B)(2) is not a requirement, as some commenters stated, but rather a selection criterion for which applicants may earn points based on the extent to which each LEA demonstrates evidence that addresses the selection criterion.

Changes: None.

Section C. Preparing Students for College and Careers

Comment: A commenter noted that Section C reflects the most essential district actions around transforming teaching and learning and suggested increasing the number of points allocated to this section.

Discussion: Although the Department did not solicit comments on the points to be assigned to the selection criteria and does not include the points in this regulatory action, we appreciate the support for Section C and the related scoring suggestions. We are keeping the majority of the criteria almost identical to the FY 2012 competition and similarly will keep the scoring rubric consistent in order to maximize applicants' ability to learn from past applications, peer reviewer comments, and other aligned resources.

Changes: None.

Comment: A commenter noted that proposed selection criterion (C)(1)(b) seems to require that the district provide every student with a personalized learning plan, defined as a formal document that would include personalized learning recommendations. The commenter suggested an approach to implementation of personalized learning plans that would first meet the needs of students with disabilities and those at risk of dropping out.

Discussion: The Department appreciates the emphasis on meeting the needs of all students, particularly high-need students. We do not believe, however, that plans in response to this criterion must include a formal document and did not intend selection criterion (C)(1)(b) to ask for such a plan. We also specifically did not define “personalized learning plan” in order to give applicants the flexibility to propose an approach that will maximize improvement in their context and through their proposals.

Changes: None.

Comment: A commenter requested more specificity in the term “frequently” as used in selection criterion (C)(1)(b)(iv)(A), regarding frequently updated individual student data, and selection criterion (C)(2)(a)(iii), regarding frequently measuring student progress. This commenter also recommended that data be used to drive small group or individual instruction. The commenter suggested that data should be something teachers use weekly, if not daily, to make instructional decisions and implement feedback loops frequently enough to accelerate student learning and student ownership for their learning.

Discussion: We agree with the importance of frequent data use. We decline to specify a particular frequency or group size for optimal data use. We believe applicants are in the best position to propose an approach that will maximize improvement in their context and through their proposals.

Changes: None.

Comment: A commenter suggested that the Department further study the concept of students earning credit based on demonstrated mastery, not the amount of time spent on a topic, specifically in light of core content standards assigned to each grade level and State tests that measure specific skills at each grade level.

Discussion: The purpose of the Race to the Top—District program is to build on the lessons learned from the State competitions conducted under the Race to the Top program and to support bold, locally directed improvements in learning and teaching that will directly improve student achievement and educator effectiveness, and then to help share those practices across the Nation. Implementing an education system that moves from focusing on inputs such as seat time to outputs and outcomes such as student mastery of academic skills and content and realized gains in student achievement is the very type of project that aligns with the purposes of this program. We believe that demonstration of mastery can align well with grade-level standards and assessments and think that applicants should propose the approaches that will maximize improvement in their contexts and through their proposals, provided they address the Race to the Top—District priorities, requirements, and selection criteria.

Changes: None.

Comment: A couple commenters recommended that in order to support successful implementation, appropriate time and professional development for educators be included in the components of a personalized learning environment. A commenter recommended that priority be given to applicants that ensure educators will receive support through this program, including through the use of funds to recall or hire much-needed teachers, education support professionals, and specialized instructional support personnel to advance personalized instruction.

Discussion: The Department agrees that support for educators is an important part of implementing and sustaining personalized learning environments. We believe that we have already emphasized this support throughout the selection criteria, for example through educator access to training, tools, data, and resources, in selection criteria (C)(2)(a), (C)(2)(b), (D)(2)(a), and (D)(2)(b). We welcome applicants' plans for educator support that best support implementation of personalized learning environments in their local contexts and through their proposals, provided the plans address the priorities, requirements, and selection criteria.

Changes: None.

Comment: A commenter recommended that districts be required to put in place training and support for parents to ensure that parents know how to use tools and resources, similar to the emphasis on supporting students in selection criterion (C)(1)(c). Another commenter suggested that the Department give priority to applicants that focus on parental engagement, particularly within the competitive preference priority, as it is a key factor in student achievement. The commenter suggested that applicants be asked to include detailed parent engagement strategies in their applications. A couple commenters noted the importance of ensuring equitable access for parents and suggested paring back other requirements to allow more emphasis on important efforts such as helping parents.

Discussion: The Department acknowledges the importance of parental involvement and as a result has already included parent engagement in many places throughout the priorities, selection criteria, and definitions. For example, parents are included as key stakeholders and users of data in Section B and are noted as key to engaging and empowering all learners in Section C; in Section D applicants are asked to ensure parents have access to necessary content, tools, and other learning resources and appropriate levels of technical support. We believe that the priorities, selection criteria, and definitions appropriately emphasize parental engagement and support.

Changes: None.

Comment: A commenter noted that although the teaching and leading requirements in the proposed selection criterion (C)(2) are strong, it is important to require districts to describe the role of the school leader in developing and implementing a new approach to personalized learning and how the districts will build the capacity of principals to lead this work.

Discussion: We agree that school leaders and leadership teams play an important role in developing and implementing personalized learning environments and believe that this is emphasized in the selection criteria. Selection criterion (C)(2)(c) emphasizes that school leaders and school leadership teams have the training, policies, tools, data, and resources to enable them to structure an effective learning environment. Selection criterion (D)(1)(b) emphasizes flexibility and autonomy for school leadership teams. Therefore, the Department believes the selection criteria effectively address the commenter's suggestions and does not believe any changes are necessary.

Changes: None.

Comment: A commenter recommended expanding selection criterion (C)(2)(d) to ask applicants to include, at the secondary school level and at the elementary school level (when applicable), a plan for increasing the number of students who receive instruction from effective and highly effective teachers fully certified to teach in the subject area in which they are assigned as the teacher of record. The commenter noted that schools serving urban and poor students are more likely to employ teachers who are on emergency waivers and who are not certified in the subject they teach.

Discussion: We agree with the emphasis on equitable access to effective teachers. Through this criterion, we ask applicants to propose a plan for increasing the number of students who receive instruction from effective and highly effective teachers and principals, including in hard-to-staff schools, subjects, and specialty areas. We believe the current language in the criterion addresses the commenter's suggestions and declines to provide further specificity in order to maintain flexibility for applicants to propose approaches that will maximize improvement in their context and through their proposals.

Changes: None.

Comment: A commenter suggested that schools should analyze schoolwide discipline issues, drawing on data collected for the CRDC, and then identify strategies that improve student-staff relationships and school environment. Another commenter agreed with our requirement that district grantees produce a detailed assessment of root causes behind disproportionate discipline and expulsions, along with a plan to address these causes. They suggested that wraparound services and supports would be one way to reduce disproportionate discipline and expulsion.

Discussion: We believe program requirement 4 addresses the commenters' suggestions. Program requirement 4 requires grantees in which minority students or students with disabilities are disproportionately subject to discipline (as defined in this notice) and expulsion (according to data submitted through the Department's CRDC, which is available at http://ocrdata.ed.gov/) to conduct a district assessment of the root causes of the disproportionate discipline and expulsions. These grantees must also develop a detailed plan over the grant period to address these root causes and to reduce disproportionate discipline (as defined in this notice) and expulsions. Applicants are not precluded from identifying strategies that improve student-staff relationships and school environment or from using wraparound services and supports as ways to reduce disproportionate discipline and expulsion, provided their plans meet the program requirements and other relevant priorities, requirements, and selection criteria. In addition, in selection criterion (C)(2)(c)(i), we emphasize the importance of structuring an effective learning environment using information that helps school leaders and school leadership teams (as defined in this notice) assess, and take steps to improve, individual and collective educator effectiveness and school culture and climate for the purpose of continuous school improvement.

Changes: None.

Comment: A commenter suggested that applicants' plans should enable students to graduate college- and career-ready but that plans should also include a focus on student health. Specifically, the commenter suggested that selection criterion (C)(2)(b)(ii) be revised to specify that high-quality learning resources should be designed to improve health. The commenter also suggested the addition of a new sub-criterion, (C)(2)(b)(iv), that emphasizes high-quality professional development, learning resources, and parental engagement strategies focusing on optimizing students' healthy development. In addition, the commenter suggested that a preference be given to all applicants that include strategies to improve overall health, incorporate a strong focus on physical activity and physical education, and incorporate health education skill building.

Discussion: We agree that overall health, physical activity, and healthy eating are important areas of focus, and we believe that the current language allows applicants to address these areas. Applicants are not precluded from addressing these areas, provided that their proposals address the priorities, requirements, and selection criteria of the Race to the Top—District program. We decline to provide a more specific focus on health areas in order to allow applicants the flexibility to create proposals that will maximize improvement in their contexts.

Changes: None.

Section D. LEA Policy and Infrastructure

Comment: A couple commenters recommended reducing the points allocated for Section D, noting that the selection criteria in this section include essential elements but were not a key differentiator between winning applicants and all other applicants in the prior competition.

Discussion: Although the Department did not solicit comments on the number of points to be assigned to the selection criteria, we appreciate the suggestions from commenters in this area. We are keeping the majority of the criteria almost identical to the FY 2012 competition and similarly will keep the scoring rubric consistent in order to maximize applicants' ability to learn from past applications, peer reviewer comments, and other aligned resources.

Changes: None.

Comment: A commenter expressed concern that selection criterion (D)(1)(b) could conflict with provisions of the Individuals with Disabilities Act (IDEA), particularly those concerning Individualized Education Programs. The commenter also believed that this criterion encourages principals to bypass collective bargaining over such factors as, among other things, school schedules and calendars, school staffing models, and school-level budgets. The commenter suggested that the Department consider school autonomy (rather than principal autonomy) in which a principal and staff would, through the collective bargaining process, propose modifications to Federal, State, or local law, regulation, or contract.

Discussion: The current language does not encourage or permit violations of the IDEA or the collective bargaining process. In addition, we do not propose that a principal be given autonomy over such decisions as scheduling or school-level budgets. Rather, by definition, a school leadership team is composed of the principal or other head of a school, teachers, and other educators (as defined in this notice) and, as applicable, other school employees, parents, students, and other community members. We also believe that requirements for the signature of a union representative, where applicable, and, in those instances where a union signature is not required, the selection criterion that asks applicants to give evidence that at least 70 percent of the teachers in a participating school support the proposal, help to ensure that the views and rights of teachers are considered in the development of the application. In order to ensure consistency in the interpretation of “school leadership teams,” we are adding “(as defined in this notice)” after “school leadership teams” when it appears. Finally, since the notice inviting applications published elsewhere in this issue of the Federal Register includes a savings clause, described elsewhere in this section, we believe it is clear that the Department does not encourage bypassing the collective bargaining process.

Changes: We have added “(as defined in this notice)” after “school leadership teams” in selection criterion (D)(1)(b).

Comment: A commenter supported our inclusion of interoperable data systems in selection criterion (D)(2)(d) and suggested preference be given to applicants that seek to share data across sectors—for example, giving school nurses access to medical records. In this way, according to the commenter, the Race to the Top—District program could advance innovative partnerships between schools, early learning providers, health systems, and other relevant sectors.

Discussion: Priority 6 rewards applications that propose to form innovative partnerships that address the social, emotional, or behavioral needs of the participating students. Under the Race to the Top—District program, applicants are not precluded from sharing data across sectors, provided that they comply with all applicable Federal, State, and local privacy laws and regulations and address the priorities, requirements, and selection criteria for the competition.

Changes: None.

Comment: A couple commenters suggested that efforts to decrease class size should be encouraged and supported by the program. The commenter noted that small class size, which promotes personalized attention and instruction, is an important infrastructure improvement that should be advanced by the Race to the Top—District program.

Discussion: The Department shares the desire for students to receive personalized attention, and the Race to the Top—District program focuses on accelerating and deepening students' learning through attention to their individual needs. We look to applicants to propose the strategies and plans that are most appropriate for maximizing improvement in their contexts and through their proposals.

Changes: None.

Section E. Continuous Improvement

Comment: A couple commenters emphasized the importance of continuous improvement for all students and recommended that the point allotment for this section be increased. The commenters also recommended that the Department ask applicants to describe their continuous improvement processes in more detail, including use of evidence-based practices; use of data-driven continuous improvement processes at the classroom, school, and district levels; and methods to assess return on investment for grant funds and use of this information to help inform the most efficient and effective future investment of funds.

Discussion: The Department agrees that it is important to have data-driven discussions that lead to improvement at the classroom, school, and district levels. We believe that the selection criteria, in particular in Section E and Section C, already ask applicants to develop plans that address data-driven discussions, continuous improvement, and return on investment. We have also added language about data use to selection criterion (F)(2), described later in this section of the document. In addition, while the Department did not solicit comments on the points assigned to the selection criteria, we appreciate the suggestions from commenters in this area. We are keeping the majority of the criteria almost identical to the FY 2012 competition and similarly will keep the scoring rubric consistent in order to maximize applicants' ability to learn from past applications, peer reviewer comments, and other aligned resources. While the majority of Section E will remain consistent with the FY 2012 competition, selection criterion (E)(4) has been revised to focus more narrowly on evaluating the effectiveness of program-funded activities and to emphasize that these evaluations should be rigorous. The Department believes selection criteria (E)(1) and (F)(2) provide an opportunity for applicants to address the areas previously included in selection criterion (E)(4).

Changes: We have revised selection criterion (E)(4) to add “rigorously” before “evaluate” and to include only the first part of the FY 2012 selection criterion, and have removed the following language “and to more productively use time, staff, money, or other resources in order to improve results, through such strategies as improved use of technology, working with community partners, compensation reform, and modification of school schedules and structures (e.g., service delivery, school leadership teams (as defined in this notice), and decision-making structures).”

Comment: A commenter suggested that the Department revise the description of the performance measures for grades 4-8 and 9-12 in which the applicant is asked to propose a health or social-emotional leading indicator. The commenter suggested adding examples of academic behaviors that research shows are linked to high school and postsecondary success, including such measures as motivation, social engagement, and self-regulation.

Discussion: Because the potential applicants and plans are so diverse, we feel that it is important for applicants to propose performance measures they believe will provide the best leading indicators of progress against their specific plans. Therefore, we decline to include specific examples in this area.

Changes: None.

Section F. Budget and Sustainability

Comment: A couple commenters noted that the selection criteria for the budget are important components, and they recommended keeping the point allocation the same for this section. A commenter supported the Department's approach to post-grant sustainability and recommended that the Department clarify that scoring for selection criterion (F)(2) will not be adversely affected if applicants choose not to include a detailed budget.

Discussion: We agree that applicants should not lose points under selection criterion (F)(2) if they choose not to include a detailed budget, and the criterion already reflects this. We will reinforce this for applicants and peer reviewers through FAQs or technical assistance. In addition, we are adding language to selection criterion (F)(2) that broadens the focus and emphasizes the importance of gathering and using data to evaluate past investments and inform future ones. We believe this will help make selection criterion (F)(2) more complete and will provide more ways for applicants to address it in a high-quality manner. In addition, while the Department did not solicit comments on the points assigned to the selection criteria, we appreciate the suggestions from commenters in this area. We are keeping the majority of the criteria almost identical to the FY 2012 competition and similarly will keep the scoring rubric consistent in order to maximize applicants' ability to learn from past applications, peer reviewer comments, and other aligned resources.

Changes: We have added language to selection criterion (F)(2) that asks applicants for a plan for how they will evaluate the effectiveness of past investments and use data to inform future investments. We also added language to this criterion noting that this plan may address how the applicant will evaluate improvements in productivity and outcomes to inform a post-grant budget and may include an estimated budget.

General Comments on Selection Criteria

Comment: A commenter recommended that the Department add an additional selection criterion focused on identifying risks and barriers and on articulating a comprehensive risk mitigation plan. The commenter suggested that allocating points to a criterion focused on this topic would force a more deliberate approach to thinking through challenges and solving them proactively, especially during implementation of applicants' proposals.

Discussion: We agree that it is important to consider risks and how to mitigate them and will explore ways to incorporate this further into our ongoing work with grantees as they implement their proposals. We are keeping the majority of the criteria almost identical to the FY 2012 competition in order to maximize applicants' ability to learn from past applications, peer reviewer comments, and other aligned resources. Therefore, we decline to add an additional selection criterion for applicants.

Changes: None.

Comment: A commenter suggested that the application be more specific in inviting district leaders to engage in systematic, research-based school climate reform efforts that strive to engage a variety of stakeholders in the school improvement process. The commenter asked that these efforts recognize social, emotional, civic, and intellectual aspects of learning.

Discussion: In Priority 6, we encourage districts to engage community partners and stakeholders as is appropriate in their proposal. The definition for “Family and Community Supports” guides districts to form partnerships that help serve the social, behavioral, and emotional needs of students. We encourage partnerships that focus on the social and emotional needs of students and give applicants flexibility in addressing the most appropriate aspects of learning for their students that will maximize improvement in their context and through their proposals. Additionally, in selection criterion (C)(2)(c)(i), applicants are asked to propose an approach that helps school leaders and school leadership teams assess, and take steps to improve, individual and collective educator effectiveness and school culture and climate for the purpose of continuous school improvement. Therefore, we think that the language already addresses the comment and that no changes are necessary.

Changes: None.

Comment: A few commenters suggested that the scoring rubrics should be altered to include assessments of capacity and viability, especially for LEAs with ambitious inter-district and inter-state plans for cooperation.

Discussion: We believe that the current priorities, definitions, and selection criteria already enable assessments of capacity and viability. As part of the proposal, applicants are asked to submit high-quality plans and ambitious yet achievable goals, performance measures, and annual targets. In determining the quality of an applicant's plan, peer reviewers will evaluate the key goals, the activities to be undertaken and rationale for the activities, the timeline, the deliverables, the parties responsible for implementing the activities, and the overall credibility of the plan (as judged, in part, by the information submitted as supporting evidence). Peer reviewers will also determine whether an applicant has “ambitious yet achievable” goals, performance measures, and annual targets that are meaningful for the applicant's proposal and for assessing implementation progress, successes, and challenges. To help ensure consistency of interpretation and scoring across reviewers, the Department will provide peer reviewers with training and a detailed scoring chart. Finally, although the Department did not solicit comments on the points to be assigned to the selection criteria and does not include the points in this regulatory action, we appreciate the scoring suggestions. We are keeping the majority of the selection criteria almost identical to the FY 2012 competition and similarly will keep the scoring rubric consistent in order to maximize applicants' ability to learn from past applications, peer reviewer comments, and other aligned resources.

Changes: None.

Priorities

Priority 1

Comment: A commenter recommended referencing student engagement and ownership of learning within Priority 1, as both are important components of personalized learning environments and essential to increasing student achievement. The commenter noted that student engagement and having a sense of ownership of learning are included in the selection criteria in Section A but that it would be helpful to include them in Priority 1 as well.

Discussion: We agree with the emphasis on increasing student engagement and ownership. However, we believe this is already a central concept in the Race to the Top—District program and decline to add additional language to Priority 1.

Changes: None.

Priority 6

Comment: Numerous commenters expressed support for Priority 6, in particular for the focus on partnerships; innovative health, safety, and community programs for high-need students; and capacity-building for districts. A commenter noted that this priority could be a good basis for a competitive grant program on its own or in combination with work on the Common Core standards, while other commenters noted support for keeping it as a competitive preference priority. Another commenter recommended that the Department increase the number of points available for this priority if the Department uses the priority as a competitive preference priority. A commenter suggested that preference be given to proposals that address early learning, given rates of reading failure among children. The commenter cited the importance of reading ability as an individual predictor of adult health status as well. A few commenters suggested changes to Priority 6. A commenter suggested that the Department add “community-based media organizations” to the illustrative list of partners to help ensure that public media continues to be a key partner in education. Another commenter suggested that the Department increase its focus on partnerships with small businesses. A commenter suggested that a preference be given to applicants that include a specific coordinated effort among education, public health, child health, and early care providers, as well as services for children, youth, and their families that span from cradle to graduation. A couple commenters described the importance of aligning the approach to Priority 6 with the applicant's personalized learning goals and plans. These commenters also recommended that the priority further detail expectations regarding the quality of the supports and partners, for example by emphasizing that the supports are based on student needs, are grounded in evidence, have a demonstrated record of improving student achievement, are integrated into the districts' or schools' vision for teaching and learning, and directly align with school and classroom level instruction and goals.

Discussion: We appreciate the support for Priority 6 and the suggestions for expanding it. While the Department did not solicit comments on the number of points to be awarded under this priority if it decides to use it as a competitive preference priority, we appreciate the suggestions from commenters in this area. We are keeping the majority of the criteria and priorities almost identical to the FY 2012 competition in order to maximize applicants' ability to learn from past applications, peer reviewer comments, and other aligned resources. In that regard, we are planning to use Priority 6 as a competitive preference priority in the FY 2013 competition and will keep the points assigned to the priority consistent with those from the FY 2012 competition. In addition, because the potential applicants and plans are so diverse, we feel that it is important to allow flexibility for applicants to propose the specific partners and partnership approaches that will maximize improvement in their contexts and through their proposals. For these reasons and based on the strong support for Priority 6, we decline to revise the priority. Finally, applicants are not precluded from addressing the matters raised by the commenters in their proposals, provided the proposals address the Race to the Top—District priorities, requirements, and selection criteria.

Changes: None.

Comment: A commenter expressed concern that Priority 6 may be seen as an “add-on” and not fit comprehensively into district plans. The commenter recommended that districts be allowed to delay implementation of Priority 6 until the second year of the grant period so that they may focus first on implementation of personalized learning environments and thoughtful selection of partners. The commenter also recommended that applicants refrain from naming partners in their application, similar to the approach for vendors.

Discussion: Priority 6 specifically asks applicants to describe how the partnership supports the applicant's plan for addressing Priority 1, rewarding alignment of the applicants' partnership proposals and broader plans. In addition, the Department expects applicants to propose ambitious yet achievable plans for implementing their proposals. Applicants have the flexibility to apply for the award range that aligns with their implementation and scale-up plan and to sequence activities in the way that best achieves the goals outlined in their proposal. In addition, we believe it is important to allow applicants to identify proposed partnerships as appropriate and to provide sufficient detail for peer reviewers to determine the extent to which the applicant has met the priority.

Changes: None.

Comment: A couple commenters suggested that the Department give priority to applicants that focus on improving overall child health, including healthy eating, physical activity, social-emotional competencies, socioeconomic needs, and mental health. They explained the positive correlation between physical health and academic performance. A commenter suggested that applicants emphasize children's overall healthy development throughout the application. This commenter would like to see health measured in data systems, data shared across systems in different sectors, increased relationships with health care providers, and preference to applicants that address health literacy and incorporate a strong focus on physical activity and physical education.

Discussion: The Department recognizes the importance of student health and its relationship to academic achievement. Within Priority 6, the Department gives priority to applicants that propose partnerships designed to augment the schools' resources by providing additional student and family supports to schools that address the social, emotional, or behavioral needs of the participating students. The first example of this type of partnership includes public health organizations. In addition, the definition of “family and community supports” includes child and youth health programs, such as physical, mental, behavioral, and emotional health programs. We believe that the current language sufficiently emphasizes the importance of student health while allowing districts flexibility to develop proposals that will maximize improvement in their contexts and through their proposals. In addition, applicants are not precluded from addressing the matters raised by the commenter in their proposals, provided the proposals address the Race to the Top—District priorities, requirements, and criteria.

Changes: None.

Requirements

Comment: A commenter suggested that the minimum percentage of participating students from low-income families served by a project be increased from 40 percent to 60 percent to ensure that Federal funds are targeted to students with the greatest need.

Discussion: We believe that this suggestion may reduce the number of high-need students who benefit from the program rather than increase it. Based on data from the National Center for Education Statistics (NCES) 2010-2011 Common Core of Data (CCD) school and agency files, more than 82 percent of students eligible for a free or reduced-price lunch subsidy attend a school in which at least 40 percent of the students are eligible for such a subsidy. Further, more than 60,000 schools (approximately 63 percent of schools nationally) have at least 40 percent of their students eligible for a free or reduced-price lunch subsidy. A total of approximately 29 million students (roughly 59 percent of elementary and secondary students) attend those schools. By contrast, only 59 percent of students eligible for a free or reduced-price lunch subsidy attend a school in which at least 60 percent of the students are eligible for such a subsidy. In addition, fewer than 38,000 schools have at least 60 percent of their students eligible for a free or reduced-price lunch subsidy, and only 18 million students (36 percent of students nationally) attend such a school. The Department believes that requiring applicants to develop proposals in which at least 40 percent of the participating students are from low-income families ensures that program funds are targeted effectively to the neediest students.

Changes: None.

Comment: A couple commenters suggested that the definition of “local educational agency” be amended to explicitly make schools operated by the Bureau of Indian Education eligible to receive funds under the Race to the Top—District program.

Discussion: The proposed definition of “local educational agency” is the definition from section 9101(26) of the ESEA, which includes a provision under which a BIE school may be considered an LEA. If a BIE school is an LEA, the BIE school would be able to apply for a Race to the Top—District grant as an eligible LEA on its own or as part of a consortium.

Changes: None.

Comment: A commenter questioned the appropriateness of including in a grant program a requirement that an applicant agree to implement a superintendent evaluation system that reflects (1) the feedback of many stakeholders, including but not limited to educators, principals, and parents; and (2) student outcomes. A second commenter expressed support for the superintendent evaluation requirement and suggested that there be a common definition of “student outcomes” and that the definition should include a measure of student growth that aligns with the requirements for teacher evaluation.

Discussion: For reasons similar to those underlying the emphasis on teacher and principal evaluation, the Department believes it is important for superintendents to be evaluated. We also believe that the definition of “superintendent evaluation” provides sufficient flexibility for applicants to propose evaluation systems that reflect their specific circumstances while aligning to the approaches to teacher and principal evaluation in other Department programs. We agree that the definition of “superintendent evaluation” should include a measure of student growth to allow even better alignment to teacher and principal evaluation approaches and are revising the definition accordingly.

Changes: We have added language to the definition of “superintendent evaluation” to indicate that student outcomes include student growth for all students (including English learners and students with disabilities).

Comment: A commenter expressed concern that many of the teacher evaluation systems are currently being implemented without being piloted, field-tested, or validated and encouraged the Department to focus on those applicants that would build in such feedback systems in early implementation phases. The commenter also urged the Department to stress the importance of implementing evaluation systems with fidelity. Another commenter indicated that tying teacher evaluations to student test scores had changed school culture from supporting innovation and trying new things to test preparation and a fear of change. The commenter further noted that teachers are leaving the profession and that good teachers are leaving at-risk schools for fear of being unable to improve the test scores of high-need children. On the other hand, this same commenter applauded the Department for shifting the rhetoric from removing bad teachers to developing teachers and elevating the profession.

Discussion: To be eligible to receive a Race to the Top—District award, each LEA must include an assurance that it will implement not later than the 2014-2015 school year a teacher evaluation system that meets the Race to the Top—District requirements. In addition, an application from an individual LEA must include, among others, the signature of the local teacher union or association president if the LEA employs teachers who are represented by a teacher union or association (in a bargaining or non-bargaining State). For LEAs in which teachers do not have bargaining representation, applicants are asked to provide evidence that at least 70 percent of teachers in participating schools support the proposal. We believe that these requirements and selection criteria help to ensure that teacher evaluation systems are developed and implemented collaboratively with teacher representation. ESEA flexibility provides for a pilot year for teacher and principal evaluation and support systems. As of July 15, 2013, thirty-nine States plus the District of Columbia have been approved for ESEA flexibility, and an additional six States plus Puerto Rico and the Bureau of Indian Education currently have requests under review. The remaining five States have either not yet requested ESEA flexibility, or have withdrawn their requests.

Changes: None.

Comment: A couple commenters asked that the Department, through the Race to the Top—District program, provide incentives for greater charter sector accountability and transparency through clear and measurable objectives in charter contracts; clear and rigorous guidelines and procedures for charter school application reviews and ongoing oversight; and regular, rigorous reviews of charter schools by authorizers.

Discussion: We believe that the selection criteria require applicants to consider how they will rigorously review and measure the progress of participating schools, including charter schools, toward program goals. For example, the selection criteria require an applicant to include in its proposal strategies for ensuring that students are making progress toward college- and career-ready standards and graduation requirements. Under selection criterion (E)(1) an applicant also must present “a high-quality plan for implementing a rigorous continuous process that provides timely and regular feedback on progress toward project goals and opportunities for ongoing corrections and improvements during and after the term of the grant.” Given the emphasis on personalized learning, we do not believe it is appropriate to add a criterion focused specifically on charter school accountability, but applicants are not precluded from including an emphasis on this in their proposals, provided the proposals address the Race to the Top—District priorities, requirements, and criteria.

Changes: None.

Comment: A commenter expressed strong support for the proposed shift in the award ranges and lowering of the minimum number of participating students in the top range. The commenter suggested that this change will enable districts to take a more deliberate approach to the roll-out of personalized learning environments across a set of students and teachers within the district. Another commenter stated that for the largest award range, to ease the transition to implementing personalized learning environments, a grantee should be required to serve a minimum of 15,000 students during the first year of the grant and a minimum of 20,000 students during the second year of the grant. Similarly, another commenter recommended having a phase-in period that lasts beyond the first year of the grant.

Discussion: The Department expects applicants to propose an ambitious yet achievable plan for implementing their proposals. We will not lower the minimum number of participating students for the first year within the largest award range because we want to encourage plans of sufficient size and scope to support bold, innovative reforms. In addition, applicants already have the flexibility to apply for the award range that aligns with their implementation and scale-up plans and to sequence activities in the way that best achieves the goals outlined in their proposal, provided that applicants begin implementation with a number of participating students not lower than the minimum number of participating students in the award range for which they applied and that they address the priorities, requirements, and selection criteria.

Changes: None.

Comment: A couple commenters suggested the Department should emphasize that lower-capacity districts are allowed to collaborate and partner with higher-capacity districts to effectively leverage existing district strengths to improve struggling districts.

Discussion: This approach to collaboration is permitted. The Department welcomes inter-district collaboration, and any LEAs may form consortia, provided they meet the eligibility and application requirements.

Changes: None.

Comment: A couple commenters suggested eliminating the requirement that an applicant provide the State with the opportunity to comment on the application. The commenters noted that State educational agencies have formal and extensive educational expertise and missions but that they are not responsible for delivering educational services at the local level. A commenter requested that the Department clarify the weight that a peer reviewer should give to State comments during the application review process. The commenter expressed concern that assigning a high weight to such comments could stifle innovation at the local level. Another commenter stated that LEAs should have the freedom to identify and propose innovations that they feel best meet their needs, consistent with Federal requirements and State law. Furthermore, the commenters indicated that LEAs should not be required to document that the State “declined” to comment but rather that it should be sufficient for an applicant to provide evidence that the State was provided with the opportunity to comment for at least five business days.

The same commenters also provided similar suggestions with respect to comments from local entities. The commenters suggested eliminating the requirement that an applicant provide the mayor or city or town administrator with the opportunity to comment on the application. A commenter stated that there is a profound mismatch of expertise, experience, accountability, liability, and mission between local school districts and local governments and that many city and county government leaders and managers are not required to have and do not have expertise in complex educational systems, just as many school board members or superintendents are not required to have and do not have expertise on municipal services. Both commenters noted that a county or city could serve multiple school districts. A commenter stated that requiring an applicant to identify all entities eligible to submit comments, provide the application to these entities, and document all entities' decision not to comment or incorporate comments into the final application or otherwise attempt to respond to comments prior to submitting the final application is unnecessarily burdensome. The commenter further stated that it is unclear how an applicant should address or reconcile the comments received. One commenter expressed concern that collecting possibly contradictory and inconsistent feedback from multiple stakeholders could confuse rather than aid peer reviewers. A commenter further expressed concern that potential applicants could be discouraged from developing applications because of this additional layer of complexity in the application process.

Discussion: The Department believes that applicants under the Race to the Top—District program have sufficient flexibility to develop proposals that best meet their needs. However, we also believe that it is important for State officials to have the opportunity to comment on applications, to identify whether the proposed reforms are aligned with statewide reform efforts, to provide assistance where relevant, and to provide meaningful comments on the proposals. We also believe that it is important that mayors (or city or town administrators) be given the opportunity to comment on the applications. Services provided by municipalities can help to support the educational reforms proposed in the applications. Mayors or other local officials can decline to comment on an application if they believe that it is out of their area of expertise or authority. The State and local comments are an application requirement and not related to a specific selection criterion. In addition, the application requirement permits LEAs to respond to the State and local comments where they feel it is necessary. Therefore, peer reviewers will take comments into consideration as appropriate when assessing relevant selection criteria such as stakeholder engagement and State context for implementation. The requirement that State and local officials comment on an application was in place for the first Race to the Top—District competition and the Department is not aware of these requirements preventing a potential applicant from applying.

Changes: None.

Comment: A couple commenters recommended the Department require any LEA located on Indian lands to consult with the appropriate tribes and provide them with the same 10-day period to comment on the application. The commenters requested that tribes be listed as potential partners and that an LEA on Indian lands receive additional preference points if it describes a plan to consult and partner with the applicable tribes. Further, the commenters stated that any LEA that does not participate in this consultation should be ineligible to receive a Race to the Top—District grant.

Discussion: We agree that any LEA located on tribal lands, or proposing to address native student education should coordinate with the appropriate tribes when developing an application and implementing the project. Because local contexts vary significantly, applicants will need to demonstrate that they provided the mayor or other comparable local official at least 10 business days to comment on the application. We also emphasize stakeholder engagement in other sections. For example, selection criterion (B)(4) asks applicants to provide evidence of meaningful stakeholder engagement in the development of the proposal and meaningful stakeholder support for the proposal, and tribes are specifically noted in this criterion. Therefore, we feel that the language already addresses the commenters' suggestions and that no changes are necessary.

Changes: None.

Comment: Some commenters supported requiring the signature of a local union leader on the application. These commenters noted the importance of labor-management collaboration to the successful implementation of school reforms. A commenter suggested that the Department require applicants to provide evidence that staff at the participating schools have been informed and agreed to participate in the proposal. A commenter asked that the Department carefully consider reasons given by applicants that indicate that the signature of a local teacher union or association president is “not applicable.” This commenter noted that, even with the collaboration requirements, some districts developed applications without the input of their union counterparts or asked for signatures at the last minute. A commenter also suggested that more importance and prominence should be given to approval by the local union president as a condition of participation in the Race to the Top—District program.

A couple commenters encouraged the Department to require that memorandum of understanding (MOU) agreements include the signature of a local teacher union or association president in order to assure that all parties have seen and agreed to all documents submitted for grant consideration. A commenter further suggested that consortium applications involving States/districts/schools with recognized bargaining agents and States/districts/schools without such representation include some indication of educator agreement in the LEAs lacking educator representation.

A couple commenters recommended eliminating the requirement that a local teacher union or association president sign the application. These commenters noted that although the superintendent and school board are legal representatives of the school district as a unit of local government, the union is not. The commenters noted further that requiring the signature of the local teacher union or association misrepresents the respective roles of employees, superintendents, and school boards.

Discussion: The Department believes that the support of educators is essential to help ensure that the proposed reforms will be effective in better preparing students for college and careers. Therefore, we will retain the requirement that, when applicable, an application include the signature of the local teacher union or association president. When reviewing applications for eligibility, the Department carefully considers those applications indicating that the union signature is not applicable. Consortium applicants are required to include the signature of a local teacher union or association president, where applicable, on each MOU. For individual LEA applicants and for each LEA in a consortium, if the signature of a local teacher union or association president is not required, applications are evaluated based on the extent to which the LEA has demonstrated that at least 70 percent of the teachers from participating schools support the proposal. Therefore, we believe that the requirements and selection criteria encourage sufficient levels of educator support.

Finally, we believe requiring the signatures of the superintendent or chief executive officer (CEO), local school board president, and local teacher union or association president (where applicable) is important to maximizing the likelihood of timely, high-quality implementation of ambitious plans, and we will continue to require all three signatures.

Changes: None.

Comment: A couple commenters suggested that the Department include a savings clause that recognizes and supports existing collective bargaining agreements.

Discussion: The FY 2012 NIA included a savings clause, and the FY 2013 NIA also includes it.

Changes: None.

Comment: A commenter suggested that the Department require that an application include the local union or association president's signature, even in the absence of collective bargaining, to ensure the support of key stakeholders and to bolster the district's capacity for success.

Discussion: Selection criterion (B)(4)(a)(ii) asks LEAs without collective bargaining representation to provide as part of the application evidence that at least 70 percent of teachers from participating schools (as defined in this notice) support the proposal. The Department believes that this selection criterion sufficiently encourages applicants to engage teachers in the development of the proposal and demonstrate support for it.

Changes: None.

Comment: Some commenters suggested that, in the interest of transparency, the Department post more information about applicants. Specifically, the commenters suggested that before the competition the Department post all notices of intent to apply, including the names of each member of a consortium, and that after the competition the Department post all applications, including the signers of each application. A couple commenters described instances where union leaders were shown applications close to the deadline and felt pressured to sign with little or no time to review. A commenter suggested that the notices of intent to apply require the signatures of all school districts and their respective unions.

Discussion: We agree that stakeholder engagement and transparency in these areas are very important. In the FY 2012 Race to the Top—District competition, the Department posted a list of districts intending to apply, all winning applications, and the scores and comments for all applicants, and we will continue to do so in the FY 2013 competition. We have not posted appendices for the FY 2012 competition and do not anticipate posting them for the FY 2013 competition due to the length of the appendices and the need to redact personally identifiable information. Therefore, we intend to explore ways to make more readily available the names of all people who signed applications and MOUs, for example by including them within the body of the application. We will consider revising the notice of intent to apply form to include the names of both member and lead LEAs for consortium applicants. We will include in the NIA and application the recommendation for LEAs to share with relevant stakeholders their intent to apply. Finally, in selection criterion (B)(4), to further emphasize the importance of early stakeholder engagement, we are replacing the word “in” with the word “throughout” so that the criterion asks for meaningful stakeholder engagement “throughout” the development of the proposal.

Changes: We plan to make more readily available the names of all individuals who signed the application and MOUs, request names of member and lead LEAs for consortium applicants in notices of intent to apply, and include in the NIA the recommendation for LEAs to share with relevant stakeholders their intent to apply. In selection criterion (B)(4), we are replacing the word “in” with the word “throughout.”

Final Priorities

The Secretary establishes six priorities. The Department may apply one or more of these priorities in any year in which a competition for program funds is held. In addition, in any year in which a Race to the Top—District competition is held, we may include priorities from the notice of final supplemental priorities and definitions for discretionary grant programs, published in the Federal Register on December 15, 2010 (75 FR 78486), and corrected on May 12, 2011 (76 FR 276637).

Priority 1—Personalized Learning Environments.

To meet this priority, an applicant must coherently and comprehensively address how it will build on the core educational assurance areas (as defined in this notice) to create learning environments that are designed to significantly improve learning and teaching through the personalization of strategies, tools, and supports for students and educators that are aligned with college- and career-ready standards (as defined in this notice) or college- and career-ready graduation requirements (as defined in this notice); accelerate student achievement and deepen student learning by meeting the academic needs of each student; increase the effectiveness of educators; expand student access to the most effective educators; decrease achievement gaps across student groups; and increase the rates at which students graduate from high school prepared for college and careers.

Priority 2—Non-Rural LEAs in Race to the Top States.¹

¹ Race to the Top Phase 1, 2, and 3 States are: Arizona, Colorado, Delaware, Florida, Georgia, Hawaii, Illinois, Kentucky, Louisiana, Maryland, Massachusetts, New Jersey, New York, North Carolina, Ohio, Pennsylvania, Rhode Island, Tennessee, and the District of Columbia.

To meet this priority, an applicant must be an LEA or a consortium of LEAs in which more than 50 percent of participating students (as defined in this notice) are in non-rural LEAs in States that received awards under the Race to the Top Phase 1, Phase 2, or Phase 3 competition.

Priority 3—Rural LEAs in Race to the Top States.

To meet this priority, an applicant must be an LEA or a consortium of LEAs in which more than 50 percent of participating students (as defined in this notice) are in rural LEAs (as defined in this notice) in States that received awards under the Race to the Top Phase 1, Phase 2, or Phase 3 competition.

Priority 4—Non-Rural LEAs in non-Race to the Top States.

To meet this priority, an applicant must be an LEA or a consortium of LEAs in which more than 50 percent of participating students (as defined in this notice) are in non-rural LEAs in States that did not receive awards under the Race to the Top Phase 1, Phase 2, or Phase 3 competition.

Priority 5—Rural LEAs in non-Race to the Top States.

To meet this priority, an applicant must be an LEA or a consortium of LEAs in which more than 50 percent of participating students (as defined in this notice) are in rural LEAs (as defined in this notice) in States that did not receive awards under the Race to the Top Phase 1, Phase 2, or Phase 3 competition.

Priority 6—Results, Resource Alignment, and Integrated Services.

To meet this priority, an applicant must demonstrate the extent to which the applicant proposes to integrate public or private resources in a partnership designed to augment the schools' resources by providing additional student and family supports to schools that address the social, emotional, or behavioral needs of the participating students (as defined in this notice), giving highest priority to students in participating schools (as defined in this notice) with high-need students (as defined in this notice). To meet this priority, an applicant's proposal does not need to be comprehensive and may provide student and family supports that focus on a subset of these needs.

To meet this priority, an applicant must—

(1) Provide a description of the coherent and sustainable partnership to support the plan described in Priority 1 that it has formed with public or private organizations, such as public health, before-school, after-school, and social service providers; integrated student service providers; businesses, philanthropies, civic groups, and other community-based organizations; early learning programs; and postsecondary institutions;

(2) Identify not more than 10 population-level desired results for students in the LEA or consortium of LEAs that align with and support the applicant's broader Race to the Top—District proposal. These results must include both (a) educational results or other education outcomes (e.g., children enter kindergarten prepared to succeed in school, children exit third grade reading at grade level, and students graduate from high school college- and career-ready) and (b) family and community supports (as defined in this notice) results;

(3) Describe how the partnership would—

(a) Track the selected indicators that measure each result at the aggregate level for all children within the LEA or consortium and at the student level for the participating students (as defined in this notice);

(b) Use the data to target its resources in order to improve results for participating students (as defined in this notice), with special emphasis on students facing significant challenges, such as students with disabilities, English learners, and students affected by poverty (including highly mobile students), family instability, or other child welfare issues;

(c) Develop a strategy to scale the model beyond the participating students (as defined in this notice) to at least other high-need students (as defined in this notice) and communities in the LEA or consortium over time; and

(d) Improve results over time;

(4) Describe how the partnership would, within participating schools (as defined in this notice), integrate education and other services (e.g., services that address social-emotional and behavioral needs, acculturation for immigrants and refugees) for participating students (as defined in this notice);

(5) Describe how the partnership and LEA or consortium would build the capacity of staff in participating schools (as defined in this notice) by providing them with tools and supports to—

(a) Assess the needs and assets of participating students (as defined in this notice) that are aligned with the partnership's goals for improving the education and family and community supports (as defined in this notice) identified by the partnership;

(b) Identify and inventory the needs and assets of the school and community that are aligned with those goals for improving the education and family and community supports (as defined in this notice) identified by the applicant;

(c) Create a decision-making process and infrastructure to select, implement, and evaluate supports that address the individual needs of participating students (as defined in this notice) and support improved results;

(d) Engage parents and families of participating students (as defined in this notice) in both decision-making about solutions to improve results over time and in addressing student, family, and school needs; and

(e) Routinely assess the applicant's progress in implementing its plan to maximize impact and resolve challenges and problems; and

(6) Identify its annual ambitious yet achievable performance measures for the proposed population-level and describe desired results for students.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Eligibility Requirements

The Secretary establishes the following requirements that an LEA or consortium of LEAs must meet in order to be eligible to receive funds under this competition. We may apply one or more of these requirements in any year in which this program is in effect.

(1) Eligible applicants: To be eligible for a grant under this competition:

(a) An applicant must be an individual LEA (as defined in this notice) or a consortium of individual LEAs from one of the 50 States, the District of Columbia, or the Commonwealth of Puerto Rico.

(i) LEAs may apply for all or a portion of their schools, for specific grades, or for subject-area bands (e.g., lowest-performing schools, secondary schools, schools connected by a feeder pattern, middle school math, or preschool through third grade).

(ii) Consortia may include LEAs from multiple States.

(iii) Each LEA may participate in only one Race to the Top—District application. Successful applicants (i.e., grantees) from past Race to the Top—District competitions may not apply for additional funding.

(b) An applicant must serve a minimum of 2,000 participating students (as defined in this notice) or may serve fewer than 2,000 participating students (as defined in this notice) provided those students are served by a consortium of at least 10 LEAs and at least 75 percent of the students served by each LEA are participating students (as defined in this notice). An applicant must base its requested award amount on the number of participating students (as defined in this notice) it proposes to serve at the time of application or within the first 100 days of the grant award.

(c) At least 40 percent of participating students (as defined in this notice) across all participating schools (as defined in this notice) must be students from low-income families, based on eligibility for free or reduced-price lunch subsidies under the Richard B. Russell National School Lunch Act, or other poverty measures that LEAs use to make awards under section 1113(a) of the Elementary and Secondary Education Act of 1965, as amended (ESEA). If an applicant has not identified all participating schools (as defined in this notice) at the time of application, it must provide an assurance that within 100 days of the grant award it will meet this requirement.

(d) An applicant must demonstrate its commitment to the core educational assurance areas (as defined in this notice), including, for each LEA included in an application, an assurance signed by the LEA's superintendent or chief executive officer (CEO) that—

(i) The LEA, at a minimum, will implement no later than the 2014-2015 school year—

(A) A teacher evaluation system (as defined in this notice);

(B) A principal evaluation system (as defined in this notice); and

(C) A superintendent evaluation (as defined in this notice);

(ii) The LEA is committed to preparing all students for college or career, as demonstrated by—

(A) Being located in a State that has adopted college- and career-ready standards (as defined in this notice); or

(B) Measuring all student progress and performance against college- and career-ready graduation requirements (as defined in this notice);

(iii) The LEA has a robust data system that has, at a minimum—

(A) An individual teacher identifier with a teacher-student match; and

(B) The capability to provide timely data back to educators and their supervisors on student growth (as defined in this notice);

(iv) The LEA has the capability to receive or match student-level preschool-through-12th grade and higher education data; and

(v) The LEA ensures that any disclosure of or access to personally identifiable information in students' education records complies with the Family Educational Rights and Privacy Act (FERPA).

(e) Required signatures for the LEA or lead LEA in a consortium are those of the superintendent or CEO, local school board president, and local teacher union or association president (where applicable).

Final Application Requirements

The Secretary establishes the following application requirements for the application an LEA or consortium of LEAs would submit to the Department for funding under this competition. We may apply one or more of these requirements in any year in which this program is in effect.

(1) State comment period. Each LEA included in an application must provide its State at least 10 business days to comment on the LEA's application and submit as part of its application package—

(a) The State's comments or, if the State declined to comment, evidence that the LEA offered the State 10 business days to comment; and

(b) The LEA's response to the State's comments (optional).

(2) Mayor (or city or town administrator) comment period. Each LEA included in an application must provide its mayor or other comparable official at least 10 business days to comment on the LEA's application and submit as part of its application package—

(a) The mayor or city or town administrator's comments or, if that individual declines to comment, evidence that the LEA offered such official 10 business days to comment; and

(b) The LEA's response to the mayor or city or town administrator comments (optional).

(3) Consortium. For LEAs applying as a consortium, the application must—

(a) Indicate, consistent with 34 CFR 75.128, whether—

(i) One member of the consortium is applying for a grant on behalf of the consortium; or

(ii) The consortium has established itself as a separate, eligible legal entity and is applying for a grant on its own behalf;

(b) Be signed by—

(i) If one member of the consortium is applying for a grant on behalf of the consortium, the superintendent or CEO, local school board president, and local teacher union or association president (where applicable) of that LEA; or

(ii) If the consortium has established itself as a separate eligible legal entity and is applying for a grant on its own behalf, a legal representative of the consortium; and

(c) Include, consistent with 34 CFR 75.128, for each LEA in the consortium, copies of all memoranda of understanding or other binding agreements related to the consortium. These binding agreements must—

(i) Detail the activities that each member of the consortium plans to perform;

(ii) Describe the consortium governance structure (as defined in this notice);

(iii) Bind each member of the consortium to every statement and assurance made in the application; and

(iv) Include an assurance signed by the LEA's superintendent or CEO that—

(A) The LEA, at a minimum, will implement no later than the 2014-2015 school year—

(1) A teacher evaluation system (as defined in this notice);

(2) A principal evaluation system (as defined in this notice); and

(3) A superintendent evaluation (as defined in this notice);

(B) The LEA is committed to preparing students for college or career, as demonstrated by—

(1) Being located in a State that has adopted college- and career-ready standards (as defined in this notice); or

(2) Measuring all student progress and performance against college- and career-ready graduation requirements (as defined in this notice);

(C) The LEA has a robust data system that has, at a minimum—

(1) An individual teacher identifier with a teacher-student match; and

(2) The capability to provide timely data back to educators and their supervisors on student growth (as defined in this notice);

(D) The LEA has the capability to receive or match student-level preschool-through-12th grade and higher education data; and

(E) The LEA ensures that any disclosure of or access to personally identifiable information in students' education records complies with the FERPA; and

(v) Be signed by the superintendent or CEO, local school board president, and local teacher union or association president (where applicable).

Final Program Requirements

The Secretary establishes the following requirements for LEAs receiving funds under this competition. We may apply one or more of these requirements in any year in which this program is in effect.

(1) An applicant's budget request for all years of its project must fall within the applicable budget range as follows:

Number of participating students (as defined in this notice) | Award range ($ million)
2,000-5,000 or Fewer than 2,000, provided those students are served by a consortium of at least 10 LEAs and at least 75 percent of the students served by each LEA are participating students (as defined in this notice) | 4-10
5,001-10,000 | 10-20
10,001-20,000 | 20-25
20,001+ | 25-30

The Department will not consider an application that requests a budget outside the applicable range of awards.

(2) A grantee must commit to participate in any national evaluation of the program and work with the Department and with a national evaluator or another entity designated by the Department to ensure that data collection and program design are consistent with plans to conduct a rigorous national evaluation of the program and of specific solutions and strategies pursued by individual grantees. This commitment must include, but need not be limited to—

(i) Consistent with 34 CFR 80.36 and State and local procurement procedures, grantees must include in contracts with external vendors provisions that allow contractors to provide implementation data to the LEA, the Department, the national evaluator, or other appropriate entities in ways consistent with all privacy laws and regulations.

(ii) Developing, in consultation with the national evaluator, a plan for identifying and collecting reliable and valid baseline data for program participants.

(3) LEAs must share metadata about content alignment with college- and career-ready standards (as defined in this notice) and use through open-standard registries.

(4) LEAs in which minority students or students with disabilities are disproportionately subject to discipline (as defined in this notice) and expulsion (according to data submitted through the Department's Civil Rights Data Collection, which is available at http://ocrdata.ed.gov/) must conduct a district assessment of the root causes of the disproportionate discipline and expulsions. These LEAs must also develop a detailed plan over the grant period to address these root causes and to reduce disproportionate discipline (as defined in this notice) and expulsions.

(5) Each grantee must make all project implementation and student data available to the Department and its authorized representatives in compliance with FERPA, as applicable.

(6) Grantees must ensure that requests for information (RFIs) and requests for proposal (RFPs) developed as part of this grant are made public, and are consistent with the requirements of State and local law.

(7) Within 100 days of award, each grantee must submit to the Department—

(i) A scope of work that is consistent with its grant application and includes specific goals, activities, deliverables, timelines, budgets, key personnel, and annual targets for key performance measures; and

(ii) An individual school implementation plan for participating schools (as defined in this notice).

(8) Within 100 days of award, each grantee must demonstrate that at least 40 percent of participating students (as defined in this notice) in participating schools (as defined in this notice) are from low-income families, based on eligibility for free or reduced-price lunch subsidies under the Richard B. Russell National School Lunch Act, or other poverty measures that LEAs use to make awards under section 1113(a) of the ESEA.

Final Definitions

The Secretary establishes the following definitions for terms not defined in the American Recovery and Reinvestment Act (ARRA) (or, by reference, in the ESEA). We may apply one or more of these definitions in any year in which this program is in effect.

Achievement gap means the difference in the performance between each subgroup (as defined in this notice) within a participating LEA or school and the statewide average performance of the LEA's or State's highest-achieving subgroups in reading or language arts and in mathematics as measured by the assessments required under the ESEA, as amended.

College- and career-ready graduation requirements means minimum high school graduation expectations (e.g., completion of a minimum course of study, content mastery, proficiency on college- and career-ready assessments) that are aligned with a rigorous, robust, and well-rounded curriculum and that cover a wide range of academic and technical knowledge and skills to ensure that by the time students graduate high school, they satisfy requirements for admission into credit-bearing courses commonly required by the State's public four-year degree-granting institutions.

College- and career-ready standards means content standards for kindergarten through 12th grade that build towards college- and career-ready graduation requirements (as defined in this notice). A State's college- and career-ready standards must be either (1) standards that are common to a significant number of States; or (2) standards that are approved by a State network of institutions of higher education, which must certify that students who meet the standards will not need remedial course work at the postsecondary level.

College enrollment means the enrollment of students who graduate from high school consistent with 34 CFR 200.19(b)(1)(i) and who enroll in a public institution of higher education in the State (as defined in section 101(a) of the Higher Education Act of 1965, as amended, 20 U.S.C. 1001) within 16 months of graduation.

Consortium governance structure means the consortium's structure for carrying out its operations, including—

(1) The organizational structure of the consortium and the differentiated roles that a member LEA may hold (e.g., lead LEA, member LEA);

(2) For each differentiated role, the associated rights and responsibilities, including rights and responsibilities for adopting and implementing the consortium's proposal for a grant;

(3) The consortium's method and process (e.g., consensus, majority) for making different types of decisions (e.g., policy, operational);

(4) The protocols by which the consortium will operate, including the protocols for member LEAs to change roles or leave the consortium;

(5) The consortium's procedures for managing funds received under this grant;

(6) The terms and conditions of the memorandum of understanding or other binding agreement executed by each member LEA; and

(7) The consortium's procurement process, and evidence of each member LEA's commitment to that process.

Core educational assurance areas means the four key areas originally identified in the ARRA to support comprehensive education reform: (1) Adopting standards and assessments that prepare students to succeed in college and the workplace and to compete in the global economy; (2) building data systems that measure student growth and success, and inform teachers and principals with data about how they can improve instruction; (3) recruiting, developing, rewarding, and retaining effective teachers and principals, especially where they are needed most; and (4) turning around lowest-achieving schools.

Digital learning content means learning materials and resources that can be displayed on an electronic device and shared electronically with other users. Digital learning content includes both open source and commercial content. In order to comply with the requirements of the Americans with Disabilities Act of 1990 and Section 504 of the Rehabilitation Act of 1973, as amended, any digital learning content used by grantees must be accessible to individuals with disabilities, including individuals who use screen readers. For additional information regarding the application of these laws to technology, please refer to www.ed.gov/ocr/letters/colleague-201105-ese.pdf and www.ed.gov/ocr/docs/dcl-ebook-faq-201105.pdf.

Discipline means any disciplinary measure collected by the 2009-2010 or 2011-2012 Civil Rights Data Collection (see http://ocrdata.ed.gov).

Educators means all education professionals and education paraprofessionals working in participating schools (as defined in this notice), including principals or other heads of a school, teachers, other professional instructional staff (e.g., staff involved in curriculum development or staff development, bilingual/English as a Second Language (ESL) specialists, or instructional staff who operate library, media, and computer centers), pupil support services staff (e.g., guidance counselors, nurses, speech pathologists), other administrators (e.g., assistant principals, discipline specialists), and education paraprofessionals (e.g., assistant teachers, bilingual/ESL instructional aides).

Effective principal means a principal whose students, overall and for each subgroup, achieve acceptable rates (e.g., at least one grade level in an academic year) of student growth (as defined in this notice) as defined in the LEA's principal evaluation system (as defined in this notice).

Effective teacher means a teacher whose students achieve acceptable rates (e.g., at least one grade level in an academic year) of student growth (as defined in this notice) as defined in the LEA's teacher evaluation system (as defined in this notice).

Family and community supports means—

(1) Child and youth health programs, such as physical, mental, behavioral, and emotional health programs (e.g., home visiting programs; Head Start; Early Head Start; programs to improve nutrition and fitness, reduce childhood obesity, and create healthier communities);

(2) Safety programs, such as programs in school and out of school to prevent, control, and reduce crime, violence, drug and alcohol use, and gang activity; programs that address classroom and school-wide behavior and conduct; programs to prevent child abuse and neglect; programs to prevent truancy and reduce and prevent bullying and harassment; and programs to improve the physical and emotional security of the school setting as perceived, experienced, and created by students, staff, and families;

(3) Community stability programs, such as programs that: (a) Provide adult education and employment opportunities and training to improve educational levels, job skills, and readiness in order to decrease unemployment, with a goal of increasing family stability; (b) improve families' awareness of, access to, and use of a range of social services, if possible at a single location; (c) provide unbiased, outcome-focused, and comprehensive financial education, inside and outside the classroom and at every life stage; (d) increase access to traditional financial institutions (e.g., banks and credit unions) rather than alternative financial institutions (e.g., check cashers and payday lenders); (e) help families increase their financial literacy, financial assets, and savings; (f) help families access transportation to education and employment opportunities; and (g) provide supports and services to students who are homeless, in foster care, migrant, or highly mobile; and

(4) Family and community engagement programs that are systemic, integrated, sustainable, and continue through a student's transition from K-12 schooling to college and career. These programs may include family literacy programs and programs that provide adult education and training and opportunities for family members and other members of the community to support student learning and establish high expectations for student educational achievement; mentorship programs that create positive relationships between children and adults; programs that provide for the use of such community resources as libraries, museums, television and radio stations, and local businesses to support improved student educational outcomes; programs that support the engagement of families in early learning programs and services; programs that provide guidance on how to navigate through a complex school system and how to advocate for more and improved learning opportunities; and programs that promote collaboration with educators and community organizations to improve opportunities for healthy development and learning.

Graduation rate means the four-year or extended-year adjusted cohort graduation rate as defined by 34 CFR 200.19(b)(1).

High-minority school is defined by the LEA in a manner consistent with its State's Teacher Equity Plan, as required by section 1111(b)(8)(C) of the ESEA. The LEA must provide, in its Race to the Top—District application, the definition used.

High-need students means students at risk of educational failure or otherwise in need of special assistance and support, such as students who are living in poverty, who attend high-minority schools (as defined in this notice), who are far below grade level, who have left school before receiving a regular high school diploma, who are at risk of not graduating with a diploma on time, who are homeless, who are in foster care, who have been incarcerated, who have disabilities, or who are English learners.

High-quality plan means a plan that includes key goals, activities to be undertaken and the rationale for the activities, the timeline, the deliverables, and the parties responsible for implementing the activities.

Highly effective principal means a principal whose students, overall and for each subgroup, achieve high rates (e.g., one and one-half grade levels in an academic year) of student growth (as defined in this notice) as defined under the LEA's principal evaluation system (as defined in this notice).

Highly effective teacher means a teacher whose students achieve high rates (e.g., one and one-half grade levels in an academic year) of student growth (as defined in this notice) as defined under the LEA's teacher evaluation system (as defined in this notice).

Interoperable data system means a system that uses a common, established structure such that data can easily flow from one system to another and in which data are in a non-proprietary, open format.

Local educational agency is an entity as defined in section 9101(26) of the ESEA, except that an entity described under section 9101(26)(D) must be recognized under applicable State law as a local educational agency.

Low-performing school means a school that is in the bottom 10 percent of performance in the State, or that has significant achievement gaps, based on student academic performance in reading/language arts and mathematics on the assessments required under the ESEA, or that has a graduation rate (as defined in this notice) below 60 percent.

Metadata means information about digital learning content such as the grade or age for which it is intended, the topic or standard to which it is aligned, or the type of resource it is (e.g., video, image).

On-track indicator means a measure, available at a time sufficiently early to allow for intervention, of a single student characteristic (e.g., number of days absent, number of discipline referrals, number of credits earned), or a composite of multiple characteristics, that is both predictive of student success (e.g., students demonstrating the measure graduate at an 80 percent rate) and comprehensive of students who succeed (e.g., of all graduates, 90 percent demonstrated the indicator). Using multiple indicators that are collectively comprehensive but vary by student characteristics may be an appropriate alternative to a single indicator that applies to all students.

Open data format means data that are available in a non-proprietary, machine-readable format (e.g., Extensible Markup Language (XML) and JavaScript Object Notation (JSON)) such that they can be understood by a computer. Digital formats that require extraction, data translation such as optical character recognition, or other manipulation in order to be used in electronic systems are not machine-readable formats.

Open-standard registry means a digital platform, such as the Learning Registry, that facilitates the exchange of information about digital learning content (as defined in this notice), including (1) alignment of content with college- and career-ready standards (as defined in this notice) and (2) usage information about learning content used by educators (as defined in this notice). This digital platform must have the capability to share content information with other LEAs and with State educational agencies.

Participating school means a school that is identified by the applicant and chooses to work with the applicant to implement the plan under Priority 1, either in one or more specific grade spans or subject areas or throughout the entire school and affecting a significant number of its students.

Participating student means a student enrolled in a participating school (as defined in this notice) and who is directly served by an applicant's plan under Priority 1.

Persistently lowest-achieving school means, as determined by the State, consistent with the requirements of the School Improvement Grants (SIG) program authorized by section 1003(g) of the ESEA,² (1) any Title I school in improvement, corrective action, or restructuring that (a) is among the lowest-achieving five percent of Title I schools in improvement, corrective action, or restructuring or the lowest-achieving five Title I schools in improvement, corrective action, or restructuring in the State, whichever number of schools is greater; or (b) is a high school that has had a graduation rate (as defined in this notice) that is less than 60 percent over a number of years; and (2) any secondary school that is eligible for, but does not receive, Title I funds that (a) is among the lowest-achieving five percent of secondary schools or the lowest-achieving five secondary schools in the State that are eligible for, but do not receive, Title I funds, whichever number of schools is greater; or (b) is a high school that has had a graduation rate (as defined in this notice) that is less than 60 percent over a number of years.

² The Department considers schools that are identified as Tier I or Tier II schools under the SIG program (see 75 FR 66363) as part of a State's approved applications to be persistently lowest-achieving schools. A list of these Tier I and Tier II schools can be found on the Department's Web site at http://www2.ed.gov/programs/sif/index.html.

To identify the lowest-achieving schools, a State must take into account both (1) the academic achievement of the “all students” group in a school in terms of proficiency on the State's assessments under section 1111(b)(3) of the ESEA in reading or language arts and in mathematics combined; and (2) the school's lack of progress on those assessments over a number of years in the “all students” group.

Principal evaluation system means a system that: (1) Is used for continual improvement of instructional leadership; (2) meaningfully differentiates performance using at least three performance levels; (3) uses multiple valid measures in determining performance levels, including, as a significant factor, data on student growth (as defined in this notice) for all students (including English learners and students with disabilities), as well as other measures of professional practice (which may be gathered through multiple formats and sources, such as observations based on rigorous leadership performance standards, teacher evaluation data, and student and parent surveys); (4) evaluates principals on a regular basis; (5) provides clear, timely, and useful feedback, including feedback that identifies and guides professional development needs; and (6) is used to inform personnel decisions.

Rural local educational agency means an LEA, at the time of the application, that is eligible under the Small Rural School Achievement (SRSA) program or the Rural and Low-Income School (RLIS) program authorized under Title VI, Part B of the ESEA. Eligible applicants may determine whether a particular LEA is eligible for these programs by referring to information on the Department's Web site at http://www2.ed.gov/programs/reapsrsa/eligible13/index.html.

School leadership team means a team that leads the implementation of improvement and other initiatives at the school and is composed of the principal or other head of a school, teachers, and other educators (as defined in this notice), and, as applicable, other school employees, parents, students, and other community members. In cases where statute or local policy, including collective bargaining agreements, establishes a school leadership team, that body shall serve as the school leadership team for the purpose of this program.

Student growth means the change in student achievement for an individual student between two or more points in time, defined as—

(1) For grades and subjects in which assessments are required under ESEA section 1111(b)(3): (a) A student's score on such assessments; and (b) may include other measures of student learning, such as those described in (2) below, provided they are rigorous and comparable across schools within an LEA.

(2) For grades and subjects in which assessments are not required under ESEA section 1111(b)(3): Alternative measures of student learning and performance, such as student results on pre-tests, end-of-course tests, and objective performance-based assessments; performance against student learning objectives; student performance on English language proficiency assessments; and other measures of student achievement that are rigorous and comparable across schools within an LEA.

Student-level data means demographic, performance, and other information that pertains to a single student.

Student performance data means information about the academic progress of a single student, such as formative and summative assessment data, information on completion of coursework, instructor observations, information about student engagement and time on task, and similar information.

Subgroup means each category of students identified under section 1111(b)(2)(C)(v)(II) of the ESEA and any combined subgroup used in the State accountability system that is approved by the Department in a State's request for ESEA flexibility.

Superintendent evaluation means a rigorous, transparent, and fair annual evaluation of an LEA superintendent that provides an assessment of performance and encourages professional growth. This evaluation must reflect: (1) The feedback of many stakeholders, including but not limited to educators, principals, and parents; and (2) student outcomes, including student growth for all students (including English learners and students with disabilities).

Teacher evaluation system means a system that: (1) Is used for continual improvement of instruction; (2) meaningfully differentiates performance using at least three performance levels; (3) uses multiple valid measures in determining performance levels, including, as a significant factor, data on student growth (as defined in this notice) for all students (including English learners and students with disabilities), as well as other measures of professional practice (which may be gathered through multiple formats and sources, such as observations based on rigorous teacher performance standards, teacher portfolios, and student and parent surveys); (4) evaluates teachers on a regular basis; (5) provides clear, timely, and useful feedback, including feedback that identifies and guides professional development needs; and (6) is used to inform personnel decisions.

Teacher of record means an individual (or individuals in a co-teaching assignment) who has been assigned the lead responsibility for a student's learning in a subject or course.

Final Selection Criteria

The Secretary establishes the following selection criteria for evaluating an application under this competition. We may apply one or more of these criteria or sub-criteria, any of the selection criteria in 34 CFR 75.210, criteria based on statutory requirements for the program in accordance with 34 CFR 75.209, or any combination of these in any year in which this program is in effect. In the notice inviting applications, the application package, or both, the Department will announce the selection criteria that apply to a competition and the maximum possible points assigned to each criterion.

A. Vision

(1) The extent to which the applicant has set forth a comprehensive and coherent reform vision that—

(a) Builds on its work in four core educational assurance areas (as defined in this notice);

(b) Articulates a clear and credible approach to the goals of accelerating student achievement, deepening student learning, and increasing equity through personalized student support grounded in common and individual tasks that are based on student academic interests; and

(c) Describes what the classroom experience will be like for students and teachers participating in personalized learning environments.

(2) The extent to which the applicant's approach to implementing its reform proposal (e.g., schools, grade bands, or subject areas) will support high-quality LEA-level and school-level implementation of that proposal, including—

(a) A description of the process that the applicant used or will use to select schools to participate. The process must ensure that the participating schools (as defined in this notice) collectively meet the competition's eligibility requirements;

(b) A list of the schools that will participate in grant activities (as available); and

(c) The total number of participating students (as defined in this notice), participating students (as defined in this notice) from low-income families, participating students (as defined in this notice) who are high-need students (as defined in this notice), and participating educators (as defined in this notice). If participating schools (as defined in this notice) have yet to be selected, the applicant may provide approximate numbers.

(3) The extent to which the application includes a high-quality plan (as defined in this notice) describing how the reform proposal will be scaled up and translated into meaningful reform to support district-wide change beyond the participating schools (as defined in this notice), and will help the applicant reach its outcome goals (e.g., the applicant's logic model or theory of change of how its plan will improve student learning outcomes for all students who would be served by the applicant).

(4) The extent to which the applicant's vision is likely to result in improved student learning and performance and increased equity as demonstrated by ambitious yet achievable annual goals that are equal to or exceed State ESEA targets for the LEA(s), overall and by student subgroup (as defined in this notice), for each participating LEA in the following areas:

(a) Performance on summative assessments (proficiency status and growth).

(b) Decreasing achievement gaps (as defined in this notice).

(c) Graduation rates (as defined in this notice).

(d) College enrollment (as defined in this notice) rates.

Optional: The extent to which the applicant's vision is likely to result in improved student learning and performance and increased equity as demonstrated by ambitious yet achievable annual goals for each participating LEA in the following area:

(e) Postsecondary degree attainment.

B. Prior Record of Success and Conditions for Reform

The extent to which each LEA has demonstrated evidence of—

(1) A clear record of success in the past four years in advancing student learning and achievement and increasing equity in learning and teaching, including a description, charts or graphs, raw student data, and other evidence that demonstrates the applicant's ability to—

(a) Improve student learning outcomes and close achievement gaps (as defined in this notice), including by raising student achievement, high school graduation rates (as defined in this notice), and college enrollment (as defined in this notice) rates;

(b) Achieve ambitious and significant reforms in its persistently lowest-achieving schools (as defined in this notice) or in its low-performing schools (as defined in this notice); and

(c) Make student performance data (as defined in this notice) available to students, educators (as defined in this notice), and parents in ways that inform and improve participation, instruction, and services.

(2) A high level of transparency in LEA processes, practices, and investments, including by making public, by school, actual school-level expenditures for regular K-12 instruction, instructional support, pupil support, and school administration. At a minimum, this information must include a description of the extent to which the applicant already makes available the following four categories of school-level expenditures from State and local funds:

(a) Actual personnel salaries at the school level for all school-level instructional and support staff, based on the U.S. Census Bureau's classification used in the F-33 survey of local government finances (information on the survey can be found at http://nces.ed.gov/ccd/f33agency.asp);

(b) Actual personnel salaries at the school level for instructional staff only;

(c) Actual personnel salaries at the school level for teachers only; and

(d) Actual non-personnel expenditures at the school level (if available).

(3) Successful conditions and sufficient autonomy under State legal, statutory, and regulatory requirements to implement the personalized learning environments described in the applicant's proposal;

(4) Meaningful stakeholder engagement throughout the development of the proposal and meaningful stakeholder support for the proposal, including—

(a) A description of how students, families, teachers, and principals in participating schools (as defined in this notice) were engaged in the development of the proposal and, as appropriate, how the proposal was revised based on their engagement and feedback, including—

(i) For LEAs with collective bargaining representation, evidence of direct engagement and support for the proposals from teachers in participating schools (as defined in this notice); or

(ii) For LEAs without collective bargaining representation, at a minimum, evidence that at least 70 percent of teachers from participating schools (as defined in this notice) support the proposal; and

(b) Letters of support from such key stakeholders as parents and parent organizations, student organizations, early learning programs, tribes, the business community, civil rights organizations, advocacy groups, local civic and community-based organizations, and institutions of higher education.

C. Preparing Students for College and Careers

The extent to which the applicant has a high-quality plan (as defined in this notice) for improving learning and teaching by personalizing the learning environment in order to provide all students the support to graduate college- and career-ready. This plan must include an approach to implementing instructional strategies for all participating students (as defined in this notice) that enable participating students to pursue a rigorous course of study aligned to college- and career-ready standards (as defined in this notice) and college- and career-ready graduation requirements (as defined in this notice) and accelerate his or her learning through support of his or her needs. This includes the extent to which the applicant proposes an approach that includes the following:

(1) Learning: An approach to learning that engages and empowers all learners, in particular high-need students (as defined in this notice), in an age-appropriate manner such that:

(a) With the support of parents and educators, all students—

(i) Understand that what they are learning is key to their success in accomplishing their goals;

(ii) Identify and pursue learning and development goals linked to college- and career-ready standards (as defined in this notice) or college- and career-ready graduation requirements (as defined in this notice), understand how to structure their learning to achieve their goals, and measure progress toward those goals;

(iii) Are able to be involved in deep learning experiences in areas of academic interest;

(iv) Have access and exposure to diverse cultures, contexts, and perspectives that motivate and deepen individual student learning; and

(v) Master critical academic content and develop skills and traits such as goal-setting, teamwork, perseverance, critical thinking, communication, creativity, and problem-solving;

(b) With the support of parents and educators (as defined in this notice), each student has access to—

(i) A personalized sequence of instructional content and skill development designed to enable the student to achieve his or her individual learning goals and ensure he or she can graduate on time and college- and career-ready;

(ii) A variety of high-quality instructional approaches and environments;

(iii) High-quality content, including digital learning content (as defined in this notice) as appropriate, aligned with college- and career-ready standards (as defined in this notice) or college- and career-ready graduation requirements (as defined in this notice);

(iv) Ongoing and regular feedback, including, at a minimum—

(A) Frequently updated individual student data that can be used to determine progress toward mastery of college- and career-ready standards (as defined in this notice), or college- and career-ready graduation requirements (as defined in this notice); and

(B) Personalized learning recommendations based on the student's current knowledge and skills, college- and career-ready standards (as defined in this notice) or college- and career-ready graduation requirements (as defined in this notice), and available content, instructional approaches, and supports; and

(v) Accommodations and high-quality strategies for high-need students (as defined in this notice) to help ensure that they are on track toward meeting college- and career-ready standards (as defined in this notice) or college- and career-ready graduation requirements (as defined in this notice); and

(c) Mechanisms are in place to provide training and support to students that will ensure that they understand how to use the tools and resources provided to them in order to track and manage their learning.

(2) Teaching and Leading: An approach to teaching and leading that helps educators (as defined in this notice) to improve instruction and increase their capacity to support student progress toward meeting college- and career-ready standards (as defined in this notice) or college- and career-ready graduation requirements (as defined in this notice) by enabling the full implementation of personalized learning and teaching for all students, in particular high-need students (as defined in this notice), such that:

(a) All participating educators (as defined in this notice) engage in training, and in professional teams or communities, that supports their individual and collective capacity to—

(i) Support the effective implementation of personalized learning environments and strategies that meet each student's academic needs and help ensure all students can graduate on time and college- and career-ready;

(ii) Adapt content and instruction, providing opportunities for students to engage in common and individual tasks, in response to their academic needs, academic interests, and optimal learning approaches (e.g., discussion and collaborative work, project-based learning, videos, audio, manipulatives);

(iii) Frequently measure student progress toward meeting college- and career-ready standards (as defined in this notice) or college- and career-ready graduation requirements (as defined in this notice) and use data to inform both the acceleration of student progress and the improvement of the individual and collective practice of educators (as defined in this notice); and

(iv) Improve teachers' and principals' practice and effectiveness by using feedback provided by the LEA's teacher and principal evaluation systems (as defined in this notice), including frequent feedback on individual and collective effectiveness, as well as by providing recommendations, supports, and interventions as needed for improvement.

(b) All participating educators (as defined in this notice) have access to, and know how to use, tools, data, and resources to accelerate student progress toward meeting college- and career-ready graduation requirements (as defined in this notice). Those resources must include—

(i) Actionable information that helps educators (as defined in this notice) identify optimal learning approaches that respond to individual student academic needs and interests;

(ii) High-quality learning resources (e.g., instructional content and assessments), including digital resources, as appropriate, that are aligned with college- and career-ready standards (as defined in this notice) or college- and career-ready graduation requirements (as defined in this notice), and the tools to create and share new resources; and

(iii) Processes and tools to match student needs (see Selection Criterion (C)(2)(b)(i)) with specific resources and approaches (see Selection Criterion (C)(2)(b)(ii)) to provide continuously improving feedback about the effectiveness of the resources in meeting student needs.

(c) All participating school leaders and school leadership teams (as defined in this notice) have training, policies, tools, data, and resources that enable them to structure an effective learning environment that meets individual student academic needs and accelerates student progress through common and individual tasks toward meeting college- and career-ready standards (as defined in this notice) or college- and career-ready graduation requirements (as defined in this notice). The training, policies, tools, data, and resources must include:

(i) Information, from such sources as the district's teacher evaluation system (as defined in this notice), that helps school leaders and school leadership teams (as defined in this notice) assess, and take steps to improve, individual and collective educator effectiveness and school culture and climate, for the purpose of continuous school improvement; and

(ii) Training, systems, and practices to continuously improve school progress toward the goals of increasing student performance and closing achievement gaps (as defined in this notice).

(d) The applicant has a high-quality plan (as defined in this notice) for increasing the number of students who receive instruction from effective and highly effective teachers and principals (as defined in this notice), including in hard-to-staff schools, subjects (such as mathematics and science), and specialty areas (such as special education).

D. LEA Policy and Infrastructure

The extent to which the applicant has a high-quality plan (as defined in this notice) to support project implementation through comprehensive policies and infrastructure that provide every student, educator (as defined in this notice), and level of the education system (classroom, school, and LEA) with the support and resources they need, when and where they are needed. This includes the extent to which—

(1) The applicant has practices, policies, and rules that facilitate personalized learning by—

(a) Organizing the LEA central office, or the consortium governance structure (as defined in this notice), to provide support and services to all participating schools (as defined in this notice);

(b) Providing school leadership teams (as defined in this notice) in participating schools (as defined in this notice) with sufficient flexibility and autonomy over factors such as school schedules and calendars, school personnel decisions and staffing models, roles and responsibilities for educators and noneducators, and school-level budgets;

(c) Giving students the opportunity to progress and earn credit based on demonstrated mastery, not the amount of time spent on a topic;

(d) Giving students the opportunity to demonstrate mastery of standards at multiple times and in multiple comparable ways; and

(e) Providing learning resources and instructional practices that are adaptable and fully accessible to all students, including students with disabilities and English learners; and

(2) The LEA and school infrastructure supports personalized learning by—

(a) Ensuring that all participating students (as defined in this notice), parents, educators (as defined in this notice), and other stakeholders (as appropriate and relevant to student learning), regardless of income, have access to necessary content, tools, and other learning resources both in and out of school to support the implementation of the applicant's proposal;

(b) Ensuring that students, parents, educators (as defined in this notice), and other stakeholders (as appropriate and relevant to student learning) have appropriate levels of technical support, which may be provided through a range of strategies (e.g., peer support, online support, or local support);

(c) Using information technology systems that allow parents and students to export their information in an open data format (as defined in this notice) and to use the data in other electronic learning systems (e.g., electronic tutors, tools that make recommendations for additional learning supports, or software that securely stores personal records); and

(d) Ensuring that LEAs and schools use interoperable data systems (as defined in this notice) (e.g., systems that include human resources data, student information data, budget data, and instructional improvement system data).

E. Continuous Improvement

Because the applicant's plans represent the best thinking at a point in time, and may require adjustments and revisions during implementation, it is vital that the applicant have a clear and high-quality approach to continuously improve its plans. This will be determined by the extent to which the applicant has—

(1) A high-quality plan (as defined in this notice) for implementing a rigorous continuous improvement process that provides timely and regular feedback on progress toward project goals and opportunities for ongoing corrections and improvements during and after the term of the grant. The plan must address how the applicant will monitor, measure, and publicly share information on the quality of its investments funded by Race to the Top—District, such as investments in professional development, technology, and staff;

(2) A high-quality plan (as defined in this notice) for ongoing communication and engagement with internal and external stakeholders; and

(3) Ambitious yet achievable performance measures, overall and by subgroup (as defined in this notice), with annual targets for required and applicant-proposed performance measures. For each applicant-proposed measure, the applicant must describe—

(a) Its rationale for selecting that measure;

(b) How the measure will provide rigorous, timely, and formative leading information tailored to its proposed plan and theory of action regarding the applicant's implementation success or areas of concern; and

(c) How it will review and improve the measure over time if it is insufficient to gauge implementation progress.

The applicant should have a total of approximately 12 to 14 performance measures.

The chart below outlines the required and applicant-proposed performance measures based on an applicant's applicable population.

Applicable population | Performance measure
All | (a) The number and percentage of participating students (as defined in this notice), by subgroup (as defined in this notice), whose teacher of record (as defined in this notice) and principal are a highly effective teacher (as defined in this notice) and a highly effective principal (as defined in this notice); and
| (b) The number and percentage of participating students (as defined in this notice), by subgroup (as defined in this notice), whose teacher of record (as defined in this notice) and principal are an effective teacher (as defined in this notice) and an effective principal (as defined in this notice).
PreK-3 | (a) Applicant must propose at least one age-appropriate measure of students' academic growth (e.g., language and literacy development or cognition and general learning, including early mathematics and early scientific development); and
| (b) Applicant must propose at least one age-appropriate non-cognitive indicator of growth (e.g., physical well-being and motor development, or social-emotional development).
4-8 | (a) The number and percentage of participating students (as defined in this notice), by subgroup, who are on track to college- and career-readiness based on the applicant's on-track indicator (as defined in this notice);
| (b) Applicant must propose at least one grade-appropriate academic leading indicator of successful implementation of its plan; and
| (c) Applicant must propose at least one grade-appropriate health or social-emotional leading indicator of successful implementation of its plan.
9-12 | (a) The number and percentage of participating students (as defined in this notice) who complete and submit the Free Application for Federal Student Aid (FAFSA) form;
| (b) The number and percentage of participating students (as defined in this notice), by subgroup, who are on track to college- and career-readiness based on the applicant's on-track indicator (as defined in this notice);
| (c) Applicant must propose at least one measure of career-readiness in order to assess the number and percentage of participating students (as defined in this notice) who are or are on track to being career-ready;
| (d) Applicant must propose at least one grade-appropriate academic leading indicator of successful implementation of its plan; and
| (e) Applicant must propose at least one grade-appropriate health or social-emotional leading indicator of successful implementation of its plan.

(4) A high-quality plan to rigorously evaluate the effectiveness of Race to the Top—District funded activities, such as professional development and activities that employ technology.

F. Budget and Sustainability

The extent to which—

(1) The applicant's budget, including the budget narrative and tables—

(a) Identifies all funds that will support the project (e.g., Race to the Top—District grant; external foundation support; LEA, State, and other Federal funds);

(b) Is reasonable and sufficient to support the development and implementation of the applicant's proposal; and

(c) Clearly provides a thoughtful rationale for investments and priorities, including—

(i) A description of all of the funds (e.g., Race to the Top—District grant; external foundation support; LEA, State, and other Federal funds) that the applicant will use to support the implementation of the proposal, including total revenue from these sources; and

(ii) Identification of the funds that will be used for one-time investments versus those that will be used for ongoing operational costs that will be incurred during and after the grant period, as described in the proposed budget and budget narrative, with a focus on strategies that will ensure the long-term sustainability of the personalized learning environments; and

(2) The applicant has a high-quality plan (as defined in this notice) for sustainability of the project's goals after the term of the grant. The plan should include support from State and local government leaders, financial support, and a description of how the applicant will evaluate the effectiveness of past investments and use this data to inform future investments. Such a plan may address how the applicant will evaluate improvements in productivity and outcomes to inform a post-grant budget, and include an estimated budget for the three years after the term of the grant that includes budget assumptions, potential sources, and uses of funds.

This notice does not preclude us from proposing additional priorities, requirements, definitions, or selection criteria, subject to meeting applicable rulemaking requirements.

Note: This notice does not solicit applications. In any year in which we choose to use one or more of these priorities, requirements, definitions, and selection criteria, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action will have an annual effect on the economy of more than $100 million because more than that amount has been appropriated for Race to the Top and we anticipate that more than that amount will be awarded as grants. Therefore, this final action is “economically significant” and subject to review by OMB under section 3(f)(1) of Executive Order 12866. Notwithstanding this determination, we have assessed the potential costs and benefits, both quantitative and qualitative, of this final regulatory action and have determined that the benefits justify the costs.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, definitions, and selection criteria only on a reasoned determination that their benefits justify their costs. In choosing among alternative regulatory approaches, we selected those approaches that maximize net benefits. Based on the analysis that follows, the Department believes that this regulatory action is consistent with the principles in Executive Order 13563.

We also have determined that this final regulatory action does not unduly interfere with State, local, and tribal governments in the exercise of their governmental functions.

In this regulatory impact analysis we discuss the need for regulatory action, the potential costs and benefits, net budget impacts, assumptions, limitations, and data sources, as well as regulatory alternatives we considered.

Discussion of Costs and Benefits

The Secretary believes that these priorities, requirements, definitions, and selection criteria would not impose significant costs on eligible LEAs. The Secretary also believes that the benefits of implementing the priorities, requirements, definitions, and selection criteria contained in this notice outweigh any associated costs.

The Secretary believes that these priorities, requirements, definitions, and selection criteria will result in selection of high-quality applications to implement activities that are most likely to support bold, locally directed improvements in learning and teaching that would directly improve student achievement and educator effectiveness. Additionally, the priorities, requirements, definitions, and selection criteria in this notice clarify the scope of activities the Secretary expects to support with program funds and the expected burden of work involved in preparing an application and implementing a project under the program. Potential applicants need to consider carefully the effort that will be required to prepare a strong application, their capacity to implement a project successfully, and their chances of submitting a successful application.

Program participation is voluntary. The Secretary believes that the costs imposed on applicants by these priorities, requirements, definitions, and selection criteria would be limited to paperwork burden related to preparing an application and that the benefits of implementing them would outweigh any costs incurred by applicants. The costs of carrying out activities would be paid for with program funds. Thus, the costs of implementation would not be a burden for any eligible applicants, including small entities.

Regulatory Alternatives Considered

These final priorities, requirements, definitions, and selection criteria are needed to implement the Race to the Top—District program. The Secretary does not believe that the statute, by itself, provides a sufficient level of detail to ensure that the Race to the Top—District competition serves as a mechanism for driving significant education reform in LEAs. These final priorities, requirements, definitions, and selection criteria will enable effective grant making, resulting in the selection of high-quality applicants who propose to implement activities that are most likely to support bold, locally directed improvements in learning and teaching that would directly improve student achievement and educator effectiveness.

In the absence of specific selection criteria for Race to the Top—District grants, the Department would use the general selection criteria in 34 CFR 75.210 of the Education Department General Administrative Regulations in selecting LEAs to receive grants. The Secretary does not believe the use of those general criteria would be appropriate for the Race to the Top—District competition, because they do not focus on the educational reforms that districts must be implementing in order to receive a Race to the Top—District grant, on the specific uses of funds under Race to the Top—District, or on the plans that the Secretary believes districts should develop for their Race to the Top—District grants.

The priorities, requirements, definitions, and selection criteria in this notice reflect and promote the purpose of the Race to the Top—District program. They also align the Race to the Top—District program, where possible and permissible, with other Departmental priorities. Although we maintain the overall purpose and structure of the FY 2012 Race to the Top—District program, we incorporate changes based on specific lessons learned from the first competition.

Accounting Statement

As required by OMB Circular A-4 (available at www.whitehouse.gov/sites/default/files/omb/assets/omb/circulars/a004/a-4.pdf), in the following table we have prepared an accounting statement showing the classification of the expenditures associated with the provisions of this regulatory action. This table provides our best estimate of the changes in annual monetized transfers as a result of this regulatory action. Expenditures are classified as transfers from the Federal Government to LEAs.

Accounting Statement Classification of Estimated Expenditures
[in millions]
Category | Transfers
Annualized Monetized Transfers | Approximately $120.
From Whom To Whom? | From the Federal Government to LEAs.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 30, 2013.
Arne Duncan,
Secretary of Education.

[FR Doc. 2013-18710 Filed 8-5-13; 8:45 am]

BILLING CODE 4000-01-P